DEPARTMENT OF THE INTERIOR

Fish and Wildlife Service

50 CFR Part 17

[Docket No. FWS-R1-ES-2022-0062; FXES11130900000C6-234-FF09E42000]

RIN 1018-BG77

Endangered and Threatened Wildlife and Plants; Technical Corrections for 62 Wildlife and Plant Species on the Lists of Endangered and Threatened Wildlife and Plants

AGENCY: Fish and Wildlife Service, Interior.

ACTION: Direct final rule.

SUMMARY: We, the U.S. Fish and Wildlife Service (Service), announce technical corrections for 62 wildlife and plant species under the Endangered Species Act of 1973, as amended (Act). These corrections include changes to scientific names of 11 wildlife species and 14 plant species due to taxonomic reclassification; changes to common names of 21 wildlife species and 13 plant species; and corrections to errors in scientific or common names, listing citations, or taxonomic heading placement for 4 wildlife species and 14 plant species. We are revising the List of Endangered and Threatened Wildlife and the List of Endangered and Threatened Plants (“the Lists”) to reflect the current scientifically accepted taxonomy and nomenclature of these species that occur in Idaho and the Pacific islands.

DATES: This rule is effective May 3, 2023 without further action, unless significant adverse comment is received by March 6, 2023. If significant adverse comment is received regarding taxonomic changes for any of these species, we will publish a timely withdrawal of the relevant portions of the rule in the Federal Register.

ADDRESSES: You may submit comments by one of the following methods:

• Electronically: Go to the Federal eRulemaking Portal: https://www.regulations.gov. In the Search box, enter FWS-R1-ES-2022-0062, which is the docket number for this rulemaking. Then, click on the Search button. On the resulting page, in the Search panel on the left side of the screen, under the Document Type heading, click on the Rule box to locate this document. You may submit a comment by clicking on “Comment.”

• By hard copy: Submit comments by U.S. mail or hand-delivery to: Public Comments Processing, Attn: FWS-R1-ES-2022-0062, U.S. Fish and Wildlife Service, MS: PRB/3W, 5275 Leesburg Pike, Falls Church, VA 22041-3803.

See Public Comments in SUPPLEMENTARY INFORMATION, below, for more information about submitting comments.

FOR FURTHER INFORMATION CONTACT: Marilet Zablan, Program Manager for Restoration and Endangered Species Classification, U.S. Fish and Wildlife Service, Pacific Regional Office, Ecological Services, 911 NE 11th Avenue, Portland, OR 97232; telephone 503-231-6131. Individuals in the United States who are deaf, deafblind, hard of hearing, or have a speech disability may dial 711 (TTY, TDD, or TeleBraille) to access telecommunications relay services. Individuals outside the United States should use the relay services offered within their country to make international calls to the point-of-contact in the United States.

See Species-specific Inquiries and Information in SUPPLEMENTARY INFORMATION, below, for relevant names and contact information.

SUPPLEMENTARY INFORMATION:

Public Comments

You may submit your comments and materials regarding the taxonomic revisions, identified below in table 1, by one of the methods listed in ADDRESSES. Please include sufficient information with your comments to allow us to verify any scientific or commercial information you include. We will not consider comments sent by email or fax, or to an address not listed in ADDRESSES.

We will post all comments on https://www.regulations.gov. Before including your address, phone number, email address, or other personal information in your comment, you should be aware that your entire comment—including your personal identifying information—may be made publicly available at any time. While you can ask us in your comment to withhold your personal identifying information from public review, we cannot guarantee that we will be able to do so.

Comments and materials we receive, as well as supporting documentation we use in preparing this direct final rule, will be available for public inspection on the internet at https://www.regulations.gov. Please note that comments posted to https://www.regulations.gov are not immediately viewable. When you submit a comment, the system receives it immediately. However, the comment will not be publicly viewable until we post it, which might not occur until several days after submission. Information regarding this rule is available in alternative formats upon request (see FOR FURTHER INFORMATION CONTACT).

Species-Specific Inquiries and Information

For information pertaining to specific species, please contact our Ecological Services field offices as follows:

Species | Contact person | Contact phone and email | Contact address
Pacific islands species | Megan Laut, Fish and Wildlife Biologist | 808-792-9400; megan_laut@fws.gov | Pacific Islands Fish and Wildlife Office, U.S. Fish and Wildlife Service, 300 Ala Moana Blvd., Room 3-122, Honolulu, HI 96813.
Idaho snails | Greg Burak, Fish and Wildlife Biologist | 208-378-5654; greg_burak@fws.gov | Idaho Fish and Wildlife Office, U.S. Fish and Wildlife Service, 1387 S Vinnell Way, Room 368, Boise, ID 83709.

Background

The List of Endangered and Threatened Wildlife and the List of Endangered and Threatened Plants (“the Lists”), set forth in title 50 of the Code of Federal Regulations (CFR) at 17.11 and 17.12, respectively, contain the names of endangered species and threatened species federally listed pursuant to the Act (16 U.S.C. 1531 et seq.).

The regulations at 50 CFR 17.11(c) and 17.12(b) require us to use the most recently accepted scientific name of any wildlife or plant species, respectively, that we have determined to be an endangered or threatened species.

Purpose of Direct Final Rule and Final Action

The purpose of this direct final rule is to notify the public that we are revising the Lists at 50 CFR 17.11(h) and 17.12(h) to reflect scientifically accepted taxonomy and nomenclature for 23 wildlife species and 26 plant species listed under section 4 of the Act. These changes to the Lists of Endangered and Threatened Wildlife and Plants reflect the most recently accepted scientific names in accordance with 50 CFR 17.11(c) and 17.12(b).

We are publishing this rule without a prior proposal because this is a noncontroversial action that is in the best interest of the public and should be undertaken in as timely a manner as possible. For the taxonomic revisions provided below in table 1, this rule will be effective, as published in this document, on the effective date specified in DATES, unless we receive significant adverse comments on or before the comment due date specified in DATES. Significant adverse comments are comments that provide strong justifications as to why this rule should not be adopted or why it should be changed.

If we receive significant adverse comments regarding the taxonomic changes for any of the species included in table 1, below, we will publish a document in the Federal Register withdrawing this rule for the appropriate species before the effective date, and we will publish a proposed rule to initiate promulgation of those changes to 50 CFR 17.11(h) and/or 17.12(h).

In addition, we are notifying the public that we have identified editorial errors in the Lists, and they will be corrected on the effective date of this rule (see DATES, above). The identified errors are provided below in table 2. While you may submit comments by one of the methods listed in ADDRESSES on the corrections provided below in table 2, we consider these corrections purely administrative, and we intend to make these editorial corrections on the effective date of this rule.

None of these changes are regulatory in nature; they are for accuracy and clarity. These revisions do not alter species' protections or status in any way. Any actions altering a species' protection or status would require a separate rulemaking action following the procedures of 50 CFR part 424.

Summary Tables of Taxonomic Changes and Editorial Corrections

Table 1 provides taxonomic changes we are making to reflect the scientifically accepted taxonomy and nomenclature of 23 wildlife and 26 plant species listed under section 4 of the Act. These changes reflect the most recently accepted scientific nomenclature in accordance with 50 CFR 17.11(c) and 17.12(b). The second column of table 1 also identifies correct usage of Hawaiian and Chamorro diacritical marks in common names for certain species; however, as we explain below, the text to be codified in the CFR will omit diacritical marks. Thus, corrections to common names that involve only addition of diacritical marks will not result in changes in the CFR.

Table 1—Taxonomic Revisions to the Lists Reflecting the Current Scientifically Accepted Taxonomy and Nomenclature for These Species
Species name as currently listed | Corrected species name
Common name [scientific name] | Common name [scientific name]
§ 17.11 Endangered and Threatened Wildlife
Mammals
Hawaiian hoary bat [Lasiurus cinereus semotus] | Hawaiian hoary bat ('ōpe'ape'a) [Aeorestes semotus].
Birds
Crested honeycreeper (Akohekohe) [Palmeria dolei] | 'Ākohekohe (crested honeycreeper) [Palmeria dolei].
Oahu creeper [Paroreomyza maculata] | O'ahu 'alauahio [Paroreomyza maculata].
Hawaiian coot [Fulica americana alai] | Hawaiian coot ('alae ke'oke'o) [Fulica alai].
Hawaii creeper [Oreomystis mana] | Hawaii creeper ('alawī) [Loxops mana].
Hawaiian crow [Corvus hawaiiensis] | Hawaiian crow ('alalā) [Corvus hawaiiensis].
Mariana crow [Corvus kubaryi] | Mariana crow (åga) [Corvus kubaryi].
Hawaiian duck [Anas wyvilliana] | Hawaiian duck (koloa maoli) [Anas wyvilliana].
Laysan finch (honeycreeper) [Telespyza cantans] | Laysan finch [Telespiza cantans].
Nihoa finch (honeycreeper) [Telespyza ultima] | Nihoa finch [Telespiza ultima].
Guam Micronesian kingfisher [Halcyon cinnamomina cinnamomina] | Guam kingfisher (sihek) [Todiramphus cinnamominus].
Micronesian (=La Perouse's) megapode [Megapodius laperouse] | Micronesian megapode (sasangat) [Megapodius laperouse].
Mariana common moorhen [Gallinula chloropus guami] | Mariana common moorhen (pulattat) [Gallinula chloropus guami].
Molokai thrush [Myadestes lanaiensis rutha] | Moloka'i oloma'o [Myadestes lanaiensis rutha].
Small Kauai thrush [Myadestes palmeri] | Puaiohi [Myadestes palmeri].
Hawaiian petrel [Pterodroma sandwichensis] | Hawaiian petrel ('ua'u) [Pterodroma sandwichensis].
Guam rail [Rallus owstoni] | Guam rail (ko'ko') [Gallirallus owstoni].
Newell's Townsend's shearwater [Puffinus auricularis newelli] | Newell's shearwater ('a'o) [Puffinus newelli].
Band-rumped storm-petrel (Hawaii DPS) [Oceanodroma castro] | Band-rumped storm-petrel ('akē'akē) (Hawaii DPS) [Hydrobates castro].
Mariana gray swiftlet [Aerodramus vanikorensis bartschi] | Mariana swiftlet (yayaguak) [Aerodramus bartschi].
Rota bridled white-eye [Zosterops rotensis] | Rota white-eye (nosa' Luta) [Zosterops rotensis].
Snails
Banbury Springs limpet [Lanx sp.] | Banbury Springs limpet [Idaholanx fresti].
Snake River physa snail [Physa natricina] | Snake River physa snail [Physella natricina].

Table 1—Taxonomic Revisions to the Lists Reflecting the Current Scientifically Accepted Taxonomy and Nomenclature for These Species
Species name as currently listed | Corrected species name
§ 17.12 Endangered and Threatened Plants
Scientific name [common name] | Scientific name [common name]
Flowering Plants
Abutilon menziesii [ko'oloa'ula] | Abutilon menziesii [ko'oloa'ula].
Argyroxiphium sandwicense ssp. macrocephalum ['ahinahina] | Argyroxiphium sandwicense ssp. macrocephalum ['āhinahina].
Argyroxiphium sandwicense ssp. sandwicense ['ahinahina] | Argyroxiphium sandwicense ssp. sandwicense ['āhinahina].
Chamaesyce skottsbergii var. skottsbergii [akoko (Ewa Plains akoko)] | Euphorbia skottsbergii var. skottsbergii ['akoko].
Cyrtandra crenata [ha'iwale] | Cyrtandra crenata [ha'iwale].
Cyrtandra limahuliensis [haiwale] | Cyrtandra kealiae ssp. kealiae [ha'iwale].
Gardenia brighamii [Hawaiian gardenia (na'u)] | Gardenia brighamii [nānū].
Kanaloa kahoolawensis [kohe malama malama o kanaloa] | Kanaloa kahoolawensis [kohe malama malama o Kanaloa, ka palupalu o Kanaloa].
Kokia cookei [Cooke's koki'o] | Kokia cookei [koki'o].
Kokia drynarioides [koki'o] | Kokia drynarioides [koki'o].
Kokia kauaiensis [koki'o] | Kokia kauaiensis [koki'o].
Mucuna sloanei var. persericea [sea bean] | Mucuna persericea [sea bean].
Platydesma cornuta var. cornuta [no common name] | Melicope cornuta var. cornuta [no common name].
Platydesma cornuta var. decurrens [no common name] | Melicope cornuta var. decurrens [no common name].
Platydesma remyi [no common name] | Melicope remyi [no common name].
Platydesma rostrata [pilo kea lau lii] | Melicope rostrata [pilo kea lau li'i].
Pleomele fernaldii [hala pepe] | Dracaena fernaldii [hala pepe].
Pleomele forbesii [hala pepe] | Dracaena forbesii [hala pepe].
Pleomele hawaiiensis [hala pepe] | Dracaena konaensis [hala pepe].
Psychotria hexandra ssp. oahuensis [kopiko] | Psychotria hexandra var. oahuensis [kōpiko].
Ferns and Allies
Adenophorus periens [pendent kihi fern] | Adenophorus periens [palai lā'au].
Asplenium dielerectum [asplenium-leaved diellia] | Asplenium dielerectum [no common name].
Cyclosorus boydiae [kupukupu makalii] | Menisciopsis boydiae [kupukupu makali'i].
Huperzia mannii [wawae'iole] | Phlegmariurus mannii [wāwae'iole].
Huperzia nutans [wawaeiole] | Phlegmariurus nutans [wāwae'iole].
Huperzia stemmermanniae [no common name] | Phlegmariurus stemmermanniae [no common name].

Table 2 identifies the editorial corrections we are making in this rule. In table 2 (and the text), “2016 Reformatting” refers to an August 4, 2016, final rule (81 FR 51550) that the Service published to update the format of the Lists. The purpose of the 2016 Reformatting was to make the Lists easier to understand by changing the format to reflect current practices and standards, to correct identified errors in entries such as footnotes and spelling, and to update common names, among other changes. Following publication of the 2016 Reformatting we identified editorial errors in the updated Lists. Reference in table 2 to “80 FR 59424” indicates the citation for the final rule listing 23 species in Micronesia (80 FR 59424; October 1, 2015), which incorrectly listed Cycas micronesica under the taxonomic subheading “Flowering Plants.” The third column of table 2 also identifies correct usage of Hawaiian diacritical marks in common names for certain species; however, as we explain below, the text to be codified in the CFR will omit diacritical marks.

Five species are listed in both table 1 and table 2. For the Guam kingfisher, we consider the changes to the scientific name and English common name to be editorial corrections, while parenthetical addition of the Chamorro common name is a revision in nomenclature. For the Guam rail, we consider the changes to the listing citations to be editorial corrections, while the change in scientific name and parenthetical addition of the Chamorro common name are revisions in nomenclature. For Argyroxiphium sandwicense ssp. sandwicense, we consider the changes to the listing citations to be an editorial correction, while the change in the common name is a revision in nomenclature. For Euphorbia skottsbergii var. skottsbergii, we consider the changes to scientific name and listing citations to be editorial corrections, while the change in the common name is a revision in nomenclature. For Phlegmariurus nutans, we consider the changes to the listing citations and critical habitat designation's CFR citation to be editorial corrections, while the change in the scientific name is a revision in nomenclature.

Table 2—Editorial Corrections to the Lists
Current listed name | Error: action | Correction
Wildlife
Guam Micronesian kingfisher [Halcyon cinnamomina cinnamomina] | Error in 2016 Formatting: Correct English common name and scientific name; correct listing citations to refer to critical habitat designation by its CFR citation | Guam kingfisher [Todiramphus cinnamominus]; remove “69 FR 62943; 10/28/2004”.
Guam rail [Rallus owstoni] | Error in 2016 Formatting: Correct listing citation for first Guam rail entry (endangered) to remove expired emergency listing rule and misplaced experimental population rule | Remove “49 FR 14354; 4/11/1984” and “54 FR 43966; 10/30/1989”.
Flying earwig Hawaiian damselfly [Megalagrion nesiotes] | Error in 2016 Formatting: Correct listing citation | 75 FR 35990, 6/24/2010.
Pacific Hawaiian damselfly [Megalagrion pacificum] | Error in 2016 Formatting: Correct listing citation | 75 FR 35990, 6/24/2010.
Plants
Argyroxiphium sandwicense ssp. sandwicense ['ahinahina] | Error in 2016 Formatting: Correct date in listing citation | 3/21/1986.
Chamaesyce skottsbergii var. skottsbergii [Akoko (Ewa Plains akoko)] | Error in 2016 Formatting: Correct scientific name; correct listing citations to refer to critical habitat designation by its CFR citation | Euphorbia skottsbergii var. skottsbergii; remove “77 FR 57647; 9/18/2012”.
Cyanea gibsonii [no common name] | Error in 2016 Formatting: Correct common name | hāhā.
Cyanea humboltiana [haha] | Error in 2016 Formatting: Correct scientific name | Cyanea humboldtiana.
Cyanea platyphylla [haha] | Error in 2016 Formatting: Correct common name | 'akū'akū.
Cycas micronesica [fadang, faadang] | Error in 80 FR 59424: Correct taxonomic subheading | Move under subheading “Conifers and Allies”.
Delissea rivularis [haha] | Error in 2016 Formatting: Correct scientific name; correct listing citations to refer to critical habitat designation by its CFR citation | Cyanea rivularis; remove “68 FR 9115; 2/27/2003”.
Hedyotis cookiana [awiwi] | Error in 2016 Formatting: Correct scientific name | Kadua cookiana.
Limnanthes floccosa ssp. grandiflora [large-flowered woolly meadowfoam] | Error in 2016 Formatting: Correct scientific name | Limnanthes pumila ssp. grandiflora.
Mezoneuron kavaiense [uhi uhi] | Error in 2016 Formatting: Correct common name | uhiuhi.
Plantago hawaienis [laukahi kuahiwi] | Error in 2016 Formatting: Correct scientific name | Plantago hawaiensis.
Asplenium (=Diellia) dielfalcatum (=falcate) [no common name] | Error in 2016 Formatting: Correct scientific name | Asplenium (=Diellia) dielfalcatum (=falcata).
Asplenium (=Diellia) dielpallicum (=pallida) [no common name] | Error in 2016 Formatting: Correct scientific name | Asplenium (=Diellia) dielpallidum (=pallida).
Huperzia nutans [wawaeiole] | Error in 2016 Formatting: Correct listing citation and a critical habitat designation's CFR citation | 59 FR 14482, 3/28/1994; 50 CFR 17.99(a)(1);CH 50 CFR 17.99(i).CH

Description of Taxonomic Revisions and Editorial Corrections

Using the best available scientific information, this direct final rule documents taxonomic changes of the scientific names to 11 entries on the List of Endangered and Threatened Wildlife (50 CFR 17.11(h)) and 14 entries on the List of Endangered and Threatened Plants (50 CFR 17.12(h)). The basis for these taxonomic changes is supported by published studies in peer-reviewed journals.

Accordingly, we revise the scientific names of these wildlife species under section 4 of the Act (16 U.S.C. 1531 et seq.) as follows: Hawaiian hoary bat (Aeorestes semotus), Hawaiian coot (Fulica alai), Hawaii creeper (Loxops mana), Laysan finch (Telespiza cantans), Nihoa finch (Telespiza ultima), Guam rail (Gallirallus owstoni), Newell's shearwater (Puffinus newelli), band-rumped storm-petrel (Hydrobates castro), Mariana swiftlet (Aerodramus bartschi), Banbury Springs limpet (Idaholanx fresti), and Snake River physa snail (Physella natricina). We make these changes to the List of Endangered and Threatened Wildlife to reflect the most recently accepted scientific names in accordance with 50 CFR 17.11(c). Additionally, common names of 21 wildlife species (including 9 of the above species: Hawaiian hoary bat, Hawaiian coot, Hawaii creeper, Laysan finch, Nihoa finch, Guam rail, Newell's shearwater, band-rumped storm-petrel, and Mariana swiftlet) are revised to reflect currently accepted usage and/or to include accepted common names in the Hawaiian or Chamorro languages. The first common name listed is the one used by the primary taxonomic authority for the appropriate taxonomic group (e.g., American Society of Mammalogists, American Ornithological Society, MolluscaBase), while alternative names are presented parenthetically.

Similarly, we revise the scientific names of these plant species under section 4 of the Act (16 U.S.C. 1531 et seq.) as follows: Cyrtandra kealiae ssp. kealiae (ha'iwale), Mucuna persericea (sea bean), Melicope cornuta var. cornuta (no common name), Melicope cornuta var. decurrens (no common name), Melicope remyi (no common name), Melicope rostrata (pilo kea lau li'i), Dracaena fernaldii (hala pepe), Dracaena forbesii (hala pepe), Dracaena konaensis (hala pepe), Psychotria hexandra var. oahuensis (kōpiko), Menisciopsis boydiae (kupukupu makali'i), Phlegmariurus mannii (wāwae'iole), Phlegmariurus nutans (wāwae'iole), and Phlegmariurus stemmermanniae (no common name). Additionally, common names of 13 plant species are revised to reflect currently accepted usage or for orthographic consistency.

Several species that are the subjects of the taxonomic revisions or editorial corrections in this direct final rule have a designated experimental population or critical habitat. For clarity and consistency, we are revising the text of the experimental population for Guam rail (50 CFR 17.84(f)) to correct the scientific name. We are also revising the text of the critical habitat for the following species where necessary to correct scientific or common names: Guam kingfisher (Todiramphus cinnamominus) and Rota white-eye (Zosterops rotensis) at § 17.95; Limnanthes pumila ssp. grandiflora (large-flowered woolly meadowfoam) at § 17.96; and Cyanea rivularis (haha), Cyrtandra kealiae ssp. kealiae (ha'iwale), Dracaena forbesii (hala pepe), Dracaena konaensis (hala pepe), Euphorbia skottsbergii var. skottsbergi ('akoko), Kadua cookiana (awiwi), Kokia cookei (koki'o), Melicope cornuta var. cornuta (no common name), Melicope cornuta var. decurrens (no common name), Melicope rostrata (pilo kea lau li'i), Mucuna persericea (sea bean), Psychotria hexandra var. oahuensis (kōpiko), Adenophorus periens (palai lā'au), Asplenium dielerectum (no common name), Asplenium dielfalcatum (no common name), Asplenium dielpallidum (no common name), Phlegmariurus mannii (wāwae'iole), and Phlegmariurus nutans (wāwae'iole) at § 17.99. These revisions are not regulatory in nature and do not alter the boundaries of critical habitat or the protections of the Act in any way.

The 2016 Reformatting (81 FR 51550; August 4, 2016) inadvertently introduced typographic errors in scientific names, common names, or listing citations for several listed species. This rule also did not fully incorporate corrections to the Lists that had previously been made in the direct final rules published on June 23, 2015 (80 FR 35860) and February 17, 2016 (81 FR 8004) and a final critical habitat rule published on March 30, 2016 (81 FR 17790). As summarized above in table 2, we are updating the Lists to correct these and several other errors.

We prefer to, and will, include Hawaiian and Chamorro language spellings, including diacritical marks, to the degree possible and appropriate in the preambles of our Federal Register documents. For the text to be codified in the CFR, however, we will omit diacritical marks to ensure that no errors are inadvertently incorporated during the codification process.

We make other minor editorial corrections to the Lists to ensure uniformity and clarity in the way we present information in the “Listing citations and applicable rules” columns. The information in these columns is not regulatory but is presented as helpful information for the reader.

These revisions and corrections are not regulatory in nature; they are administrative and for the purpose of clarity. The corrections do not alter species' protections, listing status, or critical habitat; an action changing a species' protections, listing status, or critical habitat would require a separate rulemaking following the procedures set forth at 50 CFR part 424.

Taxonomic Classification

Hawaiian Hoary Bat

The Hawaiian hoary bat was originally listed as endangered (35 FR 16047; October 13, 1970) under the scientific name Lasiurus cinereus semotus. However, genetic analyses of mitochondrial and nuclear DNA (Baird et al. 2015, pp. 10-13; Baird et al. 2017, pp. 18-22; Baird et al. 2021, pp. 285-288) resulted in a split of the genus Lasiurus, assigning hoary bats to the genus Aeorestes, and reclassification of the subspecies semotus as a full species. Initial analyses of mitochondrial DNA and nuclear DNA from chymase gene alleles (Baird et al. 2015, pp. 1264-1265; Baird et al. 2017, pp. 13-20) indicated that some hoary bats on the islands of Maui and Oahu grouped within the North American species Aeorestes cinereus; however, Pinzari et al. (2020, pp. 1509-1510) conducted a whole-genome analysis of single-nucleotide polymorphisms that provided finer resolution of phylogeny and concluded all hoary bats in the Hawaiian islands are one species that share a common ancestor from a single colonization event. The Integrated Taxonomic Information System (ITIS) has treated the Hawaiian hoary bat as a full species, Aeorestes semotus, since the latest record review for the genus in 2021 (ITIS 2022, unpaginated). This classification has also been adopted by the American Society of Mammalogists (2022, unpaginated). Thus, the current scientific name of the Hawaiian hoary bat is Aeorestes semotus. This taxonomic change does not affect the range or endangered status of the Hawaiian hoary bat.

Hawaiian Coot

The Hawaiian coot, a waterbird endemic to the Hawaiian Islands, was classified by Bryan and Greenway (1944, p. 109) as a subspecies of the American coot (Fulica americana). Following this taxonomic treatment, the Hawaiian coot was originally listed as endangered (35 FR 16047; October 13, 1970) under the scientific name Fulica americana alai. However, Pratt (1987, p. 27) concluded that based on characteristics of the plumage, bill, and frontal shield there was no reason to consider the Hawaiian coot more closely allied to the American coot than to any of five other related coot species. Consequently, the American Ornithologists' Union (AOU; now known as the American Ornithological Society (AOS)) (1993, p. 677) designated the Hawaiian coot as a full species; the scientific name of the Hawaiian coot is now Fulica alai. This taxonomic change does not affect the range or endangered status of the Hawaiian coot.

Hawaiian Creepers

The Hawaii creeper, a songbird endemic to the island of Hawaii, was classified by Amadon (1950, pp. 166-167) as one of six island endemic subspecies of Loxops maculata. Following this taxonomic treatment, the Hawaii creeper was originally listed as endangered (40 FR 44149; September 25, 1975) under the scientific name Loxops maculata mana. However, the AOU (1982, p. 16CC) subsequently split Loxops maculata into five species divided among the genera Oreomystis (Hawaii and Kauai) and Paroreomyza (Maui/Lāna'i, Moloka'i, and O'ahu); the Hawaii creeper was thus treated as a full species, Oreomystis mana. The List of Endangered and Threatened Wildlife (50 CFR 17.11(h)) currently reflects this taxonomy for the species.

The Hawaii creeper is similar in morphology and behavior to the 'akikiki (Oreomystis bairdi) (Pratt 1992, pp. 837-843; Reding et al. 2009, p. 221). However, analyses of genetic and osteological data (Fleischer et al. 1998, pp. 538-539; James 2004, pp. 235-241; Reding et al. 2009, pp. 222-223; Lerner et al. 2011, pp. 1839-1841) indicate that these similarities are a result of convergent evolution, and that the Hawaii creeper is more closely related to the 'ākepa species (genus Loxops) than to the 'akikiki. Consequently, the AOU has transferred the Hawaii creeper to the genus Loxops (Chesser et al. 2013, p. 567); the scientific name of the Hawaii creeper is now Loxops mana. This taxonomic change does not affect the range or endangered status of the Hawaii creeper.

The List of Endangered and Threatened Wildlife (50 CFR 17.11(h)) also currently includes the O'ahu creeper (Paroreomyza maculata). While this scientific name continues to be accepted, the AOU (1993, p. 680) adopted the Hawaiian name “O'ahu 'alauahio” as the common name for this species. This change in common name does not affect the range or endangered status of this taxon.

Guam Rail

The Guam rail was originally listed as endangered (49 FR 33881; August 27, 1984) under the scientific name Rallus owstoni. However, Olson (1973, pp. 394-397) classified this species and several other Pacific islands rail taxa within the genus Gallirallus based on differences in plumage and body structure, also noting that Gallirallus has priority over the alternative generic name Hypotaenidia. This classification has subsequently been adopted by the eBird/Clements Checklist of Birds of the World: v2021 (Clements et al. 2021, unpaginated), and is also used by the Service on the List of Migratory Birds (50 CFR 10.13). ITIS has also treated the Guam rail as Gallirallus owstoni since the latest record review for the genus in 2006 (ITIS 2022, unpaginated). Thus, we consider the current scientific name of the Guam rail to be Gallirallus owstoni. This taxonomic change does not affect the range or endangered status of the Guam rail.

Newell's Shearwater

On September 25, 1975, we published a final rule (40 FR 44149) listing the Newell's Manx shearwater (Puffinus puffinus newelli), a seabird native to the Hawaiian Islands, as threatened. At the time of listing, the taxon newelli was treated as a subspecies of the Manx shearwater (Puffinus puffinus), following Murphy (1952, pp. 1-21) who had recognized eight subspecies worldwide (puffinus [North Atlantic], mauretanicus [western Mediterranean], yelkouan [eastern Mediterranean], gavia [New Zealand], huttoni [New Zealand], newelli [Hawaiian Islands], auricularis [Revillagigedo Islands, Mexico], and opisthomelas [Baja California]).

Subsequently the AOU (1983, pp. 24-25) restricted the Manx shearwater to the North Atlantic and Mediterranean forms, recognizing newelli and auricularis as subspecies of the distinct species Townsend's shearwater (Puffinus auricularis). The List of Endangered and Threatened Wildlife currently follows this taxonomy, identifying the listed entity as Newell's Townsend's shearwater (P. auricularis newelli).

The Hawaiian and Revillagigedo Islands populations differ substantially from one another in their plumage (Howell et al. 1994, pp. 171-176), breeding chronology (Ainley et al. 1997, unpaginated), and foraging ecology (Spear et al. 1995, pp. 621-637). Despite apparent similarity in mitochondrial DNA of the two populations (Martinez-Gomez et al. 2015, pp. 1025-1034), the AOU considered these differences sufficient to function as isolating mechanisms and, following unanimous recommendation of the North American Classification Committee, classified Newell's shearwater (Puffinus newelli) as a full species distinct from Townsend's shearwater (Puffinus auricularis) (Chesser et al. 2015, pp. 751-752; AOU 2015, unpaginated). This approach is also followed by the eBird/Clements Checklist of Birds of the World: v2021 (Clements et al. 2021, unpaginated) and the International Ornithological Committee (IOC, now known as the International Ornithologists' Union (IOU)) World Bird List (Gill et al. 2021, unpaginated). This taxonomic change does not affect the range or threatened status of the Newell's shearwater.

Band-Rumped Storm-Petrel

The Hawaii distinct population segment (DPS) of the band-rumped storm-petrel was listed as endangered (81 FR 67786; September 30, 2016) under the scientific name Oceanodroma castro. However, analysis of nuclear and mitochondrial DNA (Penhallurick and Wink 2004, p. 136; Wallace et al. 2017, pp. 39-47) has shown that some species in the genus Oceanodroma are more closely related to storm-petrel species in the genus Hydrobates. Because the name Hydrobates has taxonomic priority over Oceanodroma, the AOS (Chesser et al. 2019, p. 8) has transferred all species of Oceanodroma to Hydrobates. Thus, the scientific name of the band-rumped storm-petrel is now Hydrobates castro. This taxonomic change does not affect the range or endangered status of the Hawaii DPS of the band-rumped storm-petrel.

Mariana Swiftlet

Swiftlets in the Marianas archipelago were considered by Medway (1966, pp. 159-160; 1975, pp. 154-155) to be a subspecies of the Vanikoro swiflet (Aerodramus vanikorensis bartschi) based on plumage and nest structure. Following this taxonomic approach, the Vanikoro swiftlet in the Marianas islands was listed as endangered under the scientific name Aerodramus [=Collocalia] vanikorensis bartschi (49 FR 33881; August 27, 1984).

The AOU (1983, p. 783) similarly considered bartschi as a subspecies of Aerodramus vanikorensis, adopting the common name of “gray swiftlet” for the species. The current treatment of this taxon on the List of Endangered and Threatened Wildlife (50 CFR 17.11(h)) continues to follow this approach. However, on further analysis, Browning (1993, pp. 101-104) identified substantial differences in size, morphology, plumage, and nest structure and recommended that the Marianas taxon bartschi be treated as a full species in the genus Collocalia. Consequently, the AOU (1995, p. 821) treated the Marianas taxon as a full species, Collocalia bartschi, with the common name of “Guam swiftlet.” Subsequently, this treatment was further modified to return the taxon to the genus Aerodramus (AOU 1997, p. 545), following genetic research by Lee et al. (1996, pp. 7093-7096), and to adopt the common name “Mariana swiftlet” (Banks et al. 2002, p. 901). Other global bird checklists (e.g., Clements et al. 2021, unpaginated; Gill et al. 2021, unpaginated) similarly describe this taxon as the Mariana swiftlet, Aerodramus bartschi. This taxonomic change does not affect the range or endangered status of the Mariana swiftlet.

Other Pacific Islands Landbirds

The List of Endangered and Threatened Wildlife (50 CFR 17.11(h)) currently includes the crested honeycreeper (Palmeria dolei), small Kauai thrush (Myadestes palmeri), and Moloka'i thrush (Myadestes lanaiensis rutha). While these scientific names continue to be accepted, the AOU (1985, p. 684; 1998, p. 678) has adopted Hawaiian names as the common names for these three species: 'ākohekohe (Palmeria dolei), puaiohi (Myadestes palmeri), and oloma'o (Myadestes lanaiensis). The subspecies M. lanaiensis lanaiensis historically occurred on Lāna'i but is now extinct and was not listed under the Act; the common name of “Moloka'i oloma'o” may be used to specifically refer to the listed subspecies M. lanaiensis rutha on Moloka'i. These changes in common name do not affect the range or endangered status of these taxa.

The List of Endangered and Threatened Wildlife (50 CFR 17.11(h)) also currently includes the Rota bridled white-eye (Zosterops rotensis). This scientific name continues to be accepted. However, this common name originated from the taxon having been formerly considered as a subspecies of the bridled white-eye (Zosterops conspicillatus) (Mees 1969, p. 148). Because it is now considered a separate species on the basis of mitochondrial DNA data (Slikas et al. 2000, p. 364), the common name “Rota white-eye” is more appropriate. Recent global checklists (Clements et al. 2021, unpaginated; Gill et al. 2021, unpaginated) have adopted this terminology. This change in common name does not affect the range or endangered status of this taxon.

In addition, on the List of Endangered and Threatened Wildlife, the generic name for Laysan finch and Nihoa finch should be changed from Telespyza to Telespiza. A spelling error in the original description of these species has been amended by the American Ornithologists Union (AOU 1987, p. 594), and Telespiza is now considered the accepted spelling. In the common name for these species, the parenthetical “honeycreeper” is unnecessary and will be deleted.

In the common name for the Micronesian megapode (Megapodius laperouse), the parenthetical “La Perouse's” is unnecessary and will be deleted.

Hawaiian and Chamorro Names

Several mammal and bird species currently appear on the List of Endangered and Threatened Wildlife only by their English common name, although their names in the Hawaiian or Chamorro languages are also regularly used and, in previous Service documents, we have often informally referred to them by those names. Various recovery plans and other documents cite Hawaiian names for Hawaiian hoary bat ('ōpe'ape'a) (USFWS 1998, p. 1), Hawaiian coot ('alae ke'oke'o) and Hawaiian duck (koloa maoli) (USFWS 2012, p. 1), Hawaii creeper ('alawī) (DLNR 2017, unpaginated), Newell's shearwater ('a'o) and Hawaiian petrel ('ua'u) (USFWS 1983, p. 1), band-rumped storm-petrel ('akē'akē) (USFWS 2022, p. 12), and Hawaiian crow ('alalā) (USFWS 2009, p. 1); and Chamorro names for Mariana crow (åga) (USFWS 2006, p. 1), Guam kingfisher (sihek) (USFWS 2008, p. 1), Guam rail (ko'ko') and Mariana swiftlet (yayaguak) (USFWS 1990, p. 2), Mariana common moorhen (pulattat) (USFWS 1991, p. 2), Micronesian megapode (sasangat) (USFWS 1998, p. 3), and Rota white-eye (nosa' Luta) (USFWS 2007, p. 1). To improve public communication, understanding, and engagement with local conservation partners, we are including these on the List as accepted common names for the respective species.

As previously noted, Hawaiian and Chamorro orthographic characters are included here and elsewhere in the preamble section of this rule to reflect accurate spelling of these common names; references supporting the correct spelling and orthography of these names include Wagner et al. (1999, entire), Ranker et al. (2019, entire), and Ulukau (2022, unpaginated). However, the text below in this rule that is to be codified in the CFR uses only standard English characters to prevent inadvertent errors during the codification process. Currently, the List of Endangered and Threatened Plants is inconsistent in its representation of Hawaiian names that include the glottal stop or 'okina ('); for most species the glottal stop is omitted entirely, and for a few it is incorrectly represented by a grave accent (`). Because the grave accent no longer accurately represents the 'okina, for consistency, we are amending the List of Endangered and Threatened Plants to remove the grave accent mark from the common names of these species: Abutilon menziesii (ko'oloa'ula), Argyroxiphium sandwicense ssp. macrocephalum ('āhinahina), Argyroxiphium sandwicense ssp. sandwicense ('āhinahina), Cyrtandra crenata (ha'iwale), Kokia drynarioides (koki'o), Kokia kauaiensis (koki'o), and Huperzia (amended to Phlegmariurus in this rule) mannii (wāwae'iole).

Hawaiian Birds Not Addressed

Five Hawaiian bird species for which outstanding nomenclatural issues exist were proposed for delisting due to extinction on September 30, 2021 (86 FR 54298). In the List of Endangered and Threatened Wildlife (50 CFR 17.11(h)), the scientific name of Kauai 'akialoa appears in error as Hemignathus stejnegeri, although the currently accepted scientific name is Akialoa stejnegeri, as set forth in our direct final rule published on February 17, 2016 (81 FR 8004). The large Kauai thrush (Myadestes myadestinus) is also known by the Hawaiian common name of kāma'o (AOU 1998, p. 501); the Moloka'i creeper (Paroreomyza flammea) is also known by the Hawaiian common name of kākāwahie (AOU 1998, p. 676). In addition, the common names of the Kauai 'o'o (Moho braccatus) and po'ouli (Melamprosops phaeosoma) incorrectly use the grave accent mark to represent the 'okina. Because these species may be removed from the List of Endangered and Threatened Wildlife when that proposed rule is finalized, we are not including them in this direct final rule. In addition, we published a proposed rule to reclassify the Hawaiian stilt (Himantopus mexicanus knudseni) from an endangered species to a threatened species on March 25, 2021 (86 FR 15855); the addition of the Hawaiian common names to the List for this subspecies (ae'o, kukuluae'o) is being addressed through that rulemaking process. Therefore, we are not including the Hawaiian stilt in this direct final rule.

Idaho Snails

The Banbury Springs limpet (Lanx (n.) sp.) is listed as endangered (see 57 FR 59244; December 14, 1992). It is a freshwater gastropod in the subfamily Lancinae, which are limpet-like gastropods within the family Lymnaidae. All known species within the Lancinae are restricted to the northwestern United States in river and tributary systems ranging from the Sacramento River north to the Kootenai River, a tributary of the Columbia. Although not formally described in the scientific literature at the time of its listing under the Act, the Banbury Springs limpet was identified as a unique species with a highly restricted range, from springs derived from a single aquifer system that feeds the middle reaches of the Snake River in Idaho. At the time of its discovery by the late Dr. Terry Frest in 1988, the Banbury Springs limpet was placed in the genus Lanx, with a temporary assignment of Lanx (n.) sp., as a congener with two other species, L. patelloides and L. alta (Campbell et al. 2017).

An unpublished genetic and morphological analysis by S.A. Clark (in litt. 2007) supported the Banbury Springs limpet as a unique species and suggested a level of differentiation that might warrant the erection of a separate genus. Despite this work, the species remained undescribed until a recent, more thorough investigation by Campbell et al. (2017, entire), who analyzed genetic sequences from four DNA regions from samples of the three described lancine species as well as samples from the four known populations of Banbury Springs limpet. Comparisons with other members of the subfamily also included differences in shell shape, shape and location of the columnar musculature, and genital morphology, all of which support Clark's earlier taxonomic analysis and placement of Banbury Springs limpet within its own genus. The new genus, Idaholanx, describes the species' endemicity within the State of Idaho, with the species name honoring Dr. Frest. The taxonomic revision to Idaholanx fresti does not affect the range or endangered status of the Banbury Springs limpet.

The Snake River physa snail, a freshwater gastropod endemic to the Snake River in southern Idaho, was originally described as Physa natricina (Taylor 1988, entire) and was federally listed as endangered (see 57 FR 59244; December 14, 1992). Subsequently, the species was transferred by Taylor (2003, pp. 12, 147-148) to the genus Haitia, part of a new tribe Haitiini, based primarily on penile morphology. Taylor's 2003 revision of the family Physidae designated 11 new genera, including Haitia into which he placed the Snake River physa snail based on internal anatomy. Using analyses of phylogenetic trees based on sequences of two mitochondrial genes along with reproductive morphology, Wethington and Lydeard (2007, p. 252) found inconsistencies in Taylor's classifications. While the six anatomical groups they identified fit loosely with Taylor's tribes, the molecular data of Wethington and Lydeard found his more finely divided classification to not be warranted.

The validity of the Snake River physa snail as a species was later called into question based on a morphological (shell) analysis of Physidae specimens from the Snake River (Rogers and Wethington 2007, entire), but later genetic analyses confirmed Physa natricina as a distinct species (Gates et al. 2013, entire).

More recently, Young et al. (2021, entire) used an array of species delineation analyses based on mitochondrial and nuclear gene sequences to re-evaluate species designations among Physidae in North America. Their analyses strongly supported the Snake River physa snail as a distinct taxon in the Physella clade (Young et al. 2021, pp. 7-8; MolluscaBase 2021, unpaginated), supporting recognition of Physella natricina as the adopted nomenclature for the Snake River physa snail.

The taxonomic revision to Physella natricina does not affect the range or endangered status of the Snake River physa snail.

Hawaiian Plants

On February 25, 1994, we published a final rule (59 FR 9304) to list the Hawaiian plant Cyrtandra limahuliensis (ha'iwale) as threatened. Subsequent examination of floral morphology and localities for specimens that were previously identified as this species and C. kealiae indicate that these taxa represent two subspecies of the same species that occur in different regions of the island of Kauai (Wagner and Lorence 2000, entire). Thus, specimens previously assigned to C. kealiae are now considered to represent the non-listed subspecies C. kealiae ssp. urceolata, while specimens assigned to Cyrtandra limahuliensis represent the subspecies C. kealiae ssp. kealiae. This taxonomic revision does not affect the range or threatened status of the taxon.

The endemic Hawaiian plant Mucuna sloanei var. persericea (sea bean) is listed as endangered (see 78 FR 32014; May 28, 2013). The species Mucuna sloanei is widespread in the tropics; however, examination of herbarium records shows Hawaiian specimens are distinct in flower and leaflet morphology, and they are now considered a distinct species (Moura et al. 2012, entire). Thus, the scientific name of the listed taxon is changed to Mucuna persericea. This taxonomic revision does not affect the range or endangered status of the taxon.

Four Hawaiian plants in the genus Platydesma are listed as endangered: P. rostrata (pilo kea lau li'i) (see 75 FR 18960; April 13, 2010), P. cornuta var. cornuta and P. cornuta var. decurrens (no common name) (see 77 FR 57648; September 18, 2012), and P. remyi (no common name) (see 78 FR 64638; October 29, 2013). Recent molecular studies indicate that the genus Platydesma is nested within the widely distributed genus Melicope (Appelhans et al. 2017, pp. 125-137). Thus, the scientific names of the four listed species are changed to Melicope rostrata, M. cornuta var. cornuta, M. cornuta var. decurrens, and M. remyi. This taxonomic revision does not affect the range or endangered status of these taxa.

Three Hawaiian plants in the genus Pleomele (hala pepe) are listed as endangered: P. hawaiiensis (see 61 FR 53137; October 10, 1996), P. forbesii (see 77 FR 57648; September 18, 2012), and P. fernaldii (see 78 FR 32014; May 28, 2013). Pleomele hawaiiensis is synonymous with the species P. konaensis, which has nomenclatural priority (St. John 1985, pp. 185-187; L. Weisenberger in litt. 2021). Phylogenetic analysis of chloroplast DNA, as well as differences in floral morphology and diurnal flowering pattern, indicate that Hawaiian Pleomele species are a distinct group; this group has been alternatively treated as the genus Chrysodracon (Lu and Morden 2014, pp. 92-98), but based on new genetic analyses, Chrysodracon is now considered a subgenus nested within the genus Dracaena (Jankalski 2008, pp. 17-21; Takawira-Nyenya 2018, p. 265). Thus, the scientific names of the three listed species are changed to Dracaena konaensis, D. forbesii, and D. fernaldii. This taxonomic revision does not affect the range or endangered status of these species.

The Hawaiian plant Psychotria hexandra ssp. oahuensis (kōpiko) is listed as endangered (see 77 FR 57648; September 18, 2012). On review of its taxonomic history, it was determined that this taxon has been validly published as a variety but not as a subspecies (Wagner in litt. 2021). Therefore, the scientific name of this taxon is changed to Psychotria hexandra var. oahuensis. This taxonomic revision does not affect the range or endangered status of this taxon.

The Hawaiian fern Cyclosorus boydiae (kupukupu makali'i) is listed as endangered (see 81 FR 67786; September 30, 2016). Based on morphology and molecular phylogenetic data, Fawcett and Smith (2021, p. 53) transferred this species to the genus Menisciopsis. Thus, its scientific name is changed to Menisciopsis boydiae.

Three Hawaiian lycophytes in the genus Huperzia are listed as endangered: H. mannii (wāwae'iole) (see 57 FR 20772; May 15, 1992), H. nutans (wāwae'iole) (see 59 FR 14482; March 28, 1994), and H. stemmermanniae (no common name) (see 81 FR 67786; September 30, 2016). Palmer (2003, pp. 257-259) recognized Phlegmariurus as a group within Huperzia, and in the most recent taxonomic treatment of the Hawaiian fern and lycophyte flora, Phlegmariurus was recognized as a distinct genus that includes the three listed species (Ranker et al. 2019, pp. 55-56, following Pteridophyte Phylogeny Group 2016, p. 570). Thus, the scientific names of these species are changed to Phlegmariurus mannii, P. nutans, and P. stemmermanniae. This taxonomic revision does not affect the range or endangered status of the species.

The Hawaiian plant Euphorbia skottsbergii var. skottsbergii ('Ewa Plains 'akoko) is listed as endangered (see 47 FR 36846; August 24, 1982). The common name of this taxon is changed to 'akoko following Wagner et al. (1999, pp. 614-615).

The Hawaiian plant Gardenia brighamii (Hawaiian gardenia [nā'ū]) is listed as endangered (see 50 FR 33728; August 21, 1985). The common name of this taxon is changed to nānū following Wagner et al. (1999, pp. 1131-1133) and for consistency with common names of the other listed taxa in the genus (G. mannii and G. remyi).

The Hawaiian plant Kanaloa kahoolawensis (kohe malama malama o Kanaloa) is listed as endangered (see 64 FR 48307; September 3, 1999). An alternative common name of this species, ka palupalu o Kanaloa, has also been adopted (K. Wood in litt. 2021).

The Hawaiian plant Kokia cookei (Cooke's koki'o) is listed as endangered (see 44 FR 62470; October 30, 1979). The common name of this species is changed to koki'o following Wagner et al. (1999, pp. 889-890).

The Hawaiian fern Adenophorus periens (pendent kihi fern) is listed as endangered (see 59 FR 56333; November 10, 1994). The common name of this species is changed to palai lā'au following Ranker et al. (2019) (supplemental data).

The Hawaiian fern Asplenium dielerectum (asplenium-leaved diellia) is listed as endangered (see 59 FR 56333; November 10, 1994). The common name of this species reflects its former classification in the genus Diellia, but is no longer accurate, and is changed to “no common name” following Ranker et al. (2019) (supplemental data).

Correction of Errors

To remedy errors in the Lists (50 CFR 17.11 and 17.12) that were introduced in the 2016 Reformatting (81 FR 51550; August 4, 2016), we are revising the common and/or scientific names of 1 wildlife species (Guam kingfisher, also addressed above to parenthetically include its Chamorro common name) and 11 plant species as follows. On the List of Endangered and Threatened Wildlife, we change the scientific name of Guam Micronesian kingfisher from Halcyon cinnamomina cinnamomina to Todiramphus cinnamominus and its English common name to Guam kingfisher. On the List of Endangered and Threatened Plants, we correct typographic errors in scientific names by changing Asplenium dielpallicum to Asplenium dielpallidum, changing Cyanea humboltiana to Cyanea humboldtiana, changing Plantago hawaienis to Plantago hawaiensis, and changing the parenthetical term in the scientific name of Asplenium dielfalcatum from (=falcate) to (=falcata); we also correct a typographic error in the common name of Mezoneuron kavaiense by changing uhi uhi to uhiuhi (following Wagner et al. 1999, p. 647). In addition, we change the scientific name of Chamaesyce skottsbergii var. skottsbergii to Euphorbia skottsbergii var. skottsbergii, change the scientific name of Delissea rivularis to Cyanea rivularis, change the scientific name of Hedyotis cookiana to Kadua cookiana, change the scientific name of Limnanthes floccosa ssp. grandiflora to Limnanthes pumila ssp. grandiflora, and change the common name of Cyanea platyphylla from hāhā to 'akū'akū (following Wagner et al. 1999, p. 459); the rationales for these taxonomic changes were previously presented in our direct final rule published on June 23, 2015 (80 FR 35860). On the List of Endangered and Threatened Plants, we change the common name of Cyanea gibsonii from “no common name” to hāhā (following Wagner et al. 1999, p. 437). This change in common name was previously published in our final critical habitat rule of March 30, 2016 (81 FR 17790).

In addition, on the List of Endangered and Threatened Wildlife, the listing rule citations for flying earwig Hawaiian damselfly (Megalagrion nesiotes) and Pacific Hawaiian damselfly (Megalagrion pacificum) are incorrect as currently printed, and we are changing them to reflect the actual listing rule of June 24, 2010 (75 FR 35990).

Finally, on the List of Endangered and Threatened Plants, Cycas micronesica (fadang, faadang) is incorrectly listed under the heading of “Flowering Plants.” Existing headings on the List of Endangered and Threatened Plants include “Flowering Plants,” “Conifers,” “Ferns and Allies,” and “Lichens.” This species is a cycad in the family Cycadaceae (80 FR 59424; October 1, 2015), which is a group of gymnosperm plants that is not included in the division Coniferae (conifers) but is more closely related to conifers than to flowering plants. This species is currently the only non-conifer gymnosperm listed under the Act. To accurately represent the classification of this species, we are revising the heading “Conifers” on the List of Endangered and Threatened Plants to “Conifers and Allies” and moving Cycas micronesica under that heading on the List.

Required Determinations

Clarity of the Rule

We are required by Executive Orders 12866 and 12988 and by the Presidential Memorandum of June 1, 1998, to write all rules in plain language. This means that each rule we publish must:

(a) Be logically organized;

(b) Use the active voice to address readers directly;

(c) Use clear language rather than jargon;

(d) Be divided into short sections and sentences; and

(e) Use lists and tables wherever possible.

If you feel that we have not met these requirements, send us comments by one of the methods listed in ADDRESSES. To help us to revise this rule, your comments should be as specific as possible.

National Environmental Policy Act

We have determined that environmental assessments and environmental impact statements, as defined under the authority of the National Environmental Policy Act of 1969 (42 U.S.C. 4321 et seq.), need not be prepared in connection with regulations issued pursuant to section 4(a) of the Act. We published a notice outlining our reasons for this determination in the Federal Register on October 25, 1983 (43 FR 49244).

Government-to-Government Relationship With Tribes

In accordance with the President's memorandum of April 29, 1994, “Government-to-Government Relations with Native American Tribal Governments' ” (59 FR 22951), Executive Order 13175, and the Department of the Interior's manual at 512 DM 2, we readily acknowledge our responsibility to communicate meaningfully with recognized Federal Tribes on a government-to-government basis. In accordance with Secretarial Order 3206 of June 5, 1997 (American Indian Tribal Rights, Federal-Tribal Trust Responsibilities, and the Endangered Species Act), we readily acknowledge our responsibilities to work directly with Tribes in developing programs for healthy ecosystems, to acknowledge that Tribal lands are not subject to the same controls as Federal public lands, to remain sensitive to Indian culture, and to make information available to Tribes. We have determined that this rule will not affect Tribes or Tribal lands.

References Cited

A complete list of the referenced materials is provided in Docket No FWS-R1-ES-2022-0062 at https://www.regulations.gov, or is available upon request from the U.S. Fish and Wildlife Service (see FOR FURTHER INFORMATION CONTACT).

List of Subjects in 50 CFR Part 17

Endangered and threatened species, Exports, Imports, Plants, Reporting and recordkeeping requirements, Transportation, Wildlife.

Regulation Promulgation

For the reasons given in the preamble, we amend part 17, subchapter B of chapter I, title 50 of the Code of Federal Regulations, as set forth below:

PART 17—ENDANGERED AND THREATENED WILDLIFE AND PLANTS

1. The authority citation for part 17 continues to read as follows:

Authority: 16. U.S.C. 1361-1407; 1531-1544; and 4201-4245, unless otherwise noted.

2. Amend § 17.11, in paragraph (h), the List of Endangered and Threatened Wildlife, by:

a. Under MAMMALS, revising the entry for “Bat, Hawaiian hoary”;

b. Under BIRDS:

i. Adding, in alphabetical order, entries for “Akohekohe (crested honeycreeper)” and “Alauahio, Oahu”;

ii. Revising the entries for “Coot, Hawaiian” and “Creeper, Hawaii”;

iii. Removing the entry for “Creeper, Oahu”;

iv. Revising the entries for “Crow, Hawaiian”, “Crow, Mariana”, “Duck, Hawaiian”, “Finch, Laysan”, and “Finch, Nihoa”;

v. Removing the entry for “Honeycreeper, crested (Akohekohe)”;

vi. Adding, in alphabetical order, an entry for “Kingfisher, Guam (sihek)”;

vii. Removing the entries for “Kingfisher, Guam Micronesian” and “Megapode, Micronesian (=La Perouse's)”;

viii. Adding, in alphabetical order, an entry for “Megapode, Micronesian (sasangat)”;

ix. Revising the entry for “Moorhen, Mariana common”;

x. Adding, in alphabetical order, an entry for “Olomao, Molokai”;

xi. Revising the entry for “Petrel, Hawaiian”;

xii. Adding, in alphabetical order, an entry for “Puaiohi”;

xiii. Revising both entries for “Rail, Guam”;

xiv. Removing the entry for “Shearwater, Newell's Townsend's”;

xv. Adding, in alphabetical order, an entry for “Shearwater, Newell's (ao)”;

xvi. Revising the entry for “Storm-petrel, band-rumped (Hawaii DPS)”;

xvii. Adding, in alphabetical order, an entry for “Swiftlet, Mariana (yayaguak)”;

xviii. Removing the entries for “Swiftlet, Mariana gray”, “Thrush, Molokai”, and “Thrush, small Kauai”;

xix. Adding, in alphabetical order, an entry for “White-eye, Rota (nosa Luta)”; and

xx. Removing the entry for “White-eye, Rota bridled”;

c. Under SNAILS, revising the entries for “Limpet, Banbury Springs” and “Snail, Snake River physa”; and

d. Under INSECTS, revising the entries for “Damselfly, flying earwig Hawaiian” and “Damselfly, Pacific Hawaiian”.

The additions and revisions read as follows:

§ 17.11 Endangered and threatened wildlife.

* * * * *

(h) * * *

Common name | Scientific name | Where listed | Status | Listing citations and applicable rules
Mammals
* * * * * * *
Bat, Hawaiian hoary (opeapea) | Aeorestes semotus | Wherever found | E | 35 FR 16047, 10/13/1970.
* * * * * * *
Birds
* * * * * * *
Akohekohe (crested honeycreeper) | Palmeria dolei | Wherever found | E | 32 FR 4001, 3/11/1967; 50 CFR 17.95(b).CH
Alauahio, Oahu | Paroreomyza maculata | Wherever found | E | 35 FR 16047, 10/13/1970.
* * * * * * *
Coot, Hawaiian (alae keokeo) | Fulica alai | Wherever found | E | 35 FR 16047, 10/13/1970.
* * * * * * *
Creeper, Hawaii (alawi) | Loxops mana | Wherever found | E | 40 FR 44149, 9/25/1975.
* * * * * * *
Crow, Hawaiian (alala) | Corvus hawaiiensis | Wherever found | E | 32 FR 4001, 3/11/1967.
Crow, Mariana (aga) | Corvus kubaryi | Wherever found | E | 49 FR 33881, 8/27/1984; 50 CFR 17.95(b).CH
* * * * * * *
Duck, Hawaiian (koloa maoli) | Anas wyvilliana | Wherever found | E | 32 FR 4001, 3/11/1967.
* * * * * * *
Finch, Laysan | Telespiza cantans | Wherever found | E | 32 FR 4001, 3/11/1967.
Finch, Nihoa | Telespiza ultima | Wherever found | E | 32 FR 4001, 3/11/1967.
* * * * * * *
Kingfisher, Guam (sihek) | Todiramphus cinnamominus | Wherever found | E | 49 FR 33881, 8/27/1984; 50 CFR 17.95(b).CH
* * * * * * *
Megapode, Micronesian (sasangat) | Megapodius laperouse | Wherever found | E | 35 FR 8491, 6/2/1970.
* * * * * * *
Moorhen, Mariana common (pulattat) | Gallinula chloropus guami | Wherever found | E | 49 FR 33881, 8/27/1984.
* * * * * * *
Olomao, Molokai | Myadestes lanaiensis rutha | Wherever found | E | 35 FR 16047, 10/13/1970.
* * * * * * *
Petrel, Hawaiian (uau) | Pterodroma sandwichensis | Wherever found | E | 32 FR 4001, 3/11/1967.
* * * * * * *
Puaiohi | Myadestes palmeri | Wherever found | E | 32 FR 4001, 3/11/1967.
* * * * * * *
Rail, Guam (koko) | Gallirallus owstoni | Wherever found, except where listed as an experimental population | E | 49 FR 33881, 8/27/1984.
Rail, Guam (koko) | Gallirallus owstoni | Rota | XN | 54 FR 43966, 10/30/1989; 50 CFR 17.84(f).10j
* * * * * * *
Shearwater, Newell's (ao) | Puffinus newelli | Wherever found | T | 40 FR 44149, 9/25/1975.
* * * * * * *
Storm-petrel, band-rumped (akeake) [Hawaii DPS] | Hydrobates castro | U.S.A. (HI) | E | 81 FR 67786, 9/30/2016.
* * * * * * *
Swiftlet, Mariana (yayaguak) | Aerodramus bartschi | Wherever found | E | 49 FR 33881, 8/27/1984.
* * * * * * *
White-eye, Rota (nosa Luta) | Zosterops rotensis | Wherever found | E | 69 FR 3022, 1/22/2004; 50 CFR 17.95(b).CH
* * * * * * *
Snails
* * * * * * *
Limpet, Banbury Springs | Idaholanx fresti | Wherever found | E | 57 FR 59244, 12/14/1992.
* * * * * * *
Snail, Snake River physa | Physella natricina | Wherever found | E | 57 FR 59244, 12/14/1992.
* * * * * * *
Insects
* * * * * * *
Damselfly, flying earwig Hawaiian | Megalagrion nesiotes | Wherever found | E | 75 FR 35990, 6/24/2010; 50 CFR 17.95(i).CH
* * * * * * *
Damselfly, Pacific Hawaiian | Megalagrion pacificum | Wherever found | E | 75 FR 35990, 6/24/2010; 50 CFR 17.95(i).CH
* * * * * * *

3. Amend § 17.12, in paragraph (h), the List of Endangered and Threatened Plants, by:

a. Under FLOWERING PLANTS:

i. Revising the entries for “Abutilon menziesii”, “Argyroxiphium sandwicense ssp. macrocephalum”, and “Argyroxiphium sandwicense ssp. sandwicense”;

ii. Removing the entry for “Chamaesyce skottsbergii var. skottsbergii”;

iii. Revising the entry for “Cyanea gibsonii”;

iv. Adding, in alphabetical order, an entry for “Cyanea humboldtiana”;

v. Removing the entry for “Cyanea humboltiana”;

vi. Revising the entry for “Cyanea platyphylla”;

vii. Adding, in alphabetical order, an entry for “Cyanea rivularis”;

viii. Removing the entry for “Cycas micronesica”;

ix. Revising the entry for “Cyrtandra crenata”;

x. Adding, in alphabetical order, an entry for “Cyrtandra kealiae ssp. kealiae”;

xi. Removing the entries for “Cyrtandra limahuliensis” and “Delissea rivularis”;

xii. Adding, in alphabetical order, entries for “Dracaena fernaldii”, “Dracaena forbesii”, “Dracaena konaensis”, and “Euphorbia skottsbergii var. skottsbergii”;

xiii. Revising the entry for “Gardenia brighamii”;

xiv. Removing the entry for “Hedyotis cookiana”;

xv. Adding, in alphabetical order, an entry for “Kadua cookiana”;

xvi. Revising the entries for “Kanaloa kahoolawensis”, “Kokia cookei”, “Kokia drynarioides”, and “Kokia kauaiensis”;

xvii. Removing the entry for “Limnanthes floccosa ssp. grandiflora”;

xviii. Adding, in alphabetical order, entries for “Limnanthes pumila ssp. grandiflora”, “Melicope cornuta var. cornuta”, “Melicope cornuta var. decurrens”, “Melicope remyi”, and “Melicope rostrata”;

xix. Revising the entry for “Mezoneuron kavaiense”;

xx. Adding, in alphabetical order, an entry for “Mucuna persericea”;

xxi. Removing the entries for “Mucuna sloanei var. persericea” and “Plantago hawaienis”;

xxii. Adding, in alphabetical order, an entry for “Plantago hawaiensis”;

xxiii. Removing the entries for “Platydesma cornuta var. cornuta”, “Platydesma cornuta var. decurrens”, “Platydesma remyi”, “Platydesma rostrata”, “Pleomele fernaldii”, “Pleomele forbesii”, “Pleomele hawaiiensis”, and “Psychotria hexandra ssp. oahuensis”; and

xxiv. Adding, in alphabetical order, an entry for “Psychotria hexandra var. oahuensis”;

b. Revising the heading CONIFERS to read CONIFERS AND ALLIES;

c. Under CONIFERS AND ALLIES, adding, in alphabetical order, an entry for “Cycas micronesica”; and

d. Under FERNS AND ALLIES:

i. Revising the entries for “Adenophorus periens” and “Asplenium dielerectum”;

ii. Removing the entries for “Asplenium (=Diellia) dielfalcatum (=falcate)” and “Asplenium (=Diellia) dielpallicum (=pallida)”;

iii. Adding, in alphabetical order, entries for “Asplenium (=Diellia) dielfalcatum (=falcata)” and “Asplenium (=Diellia) dielpallidum (=pallida)”;

iv. Removing the entries for “Cyclosorus boydiae”, “Huperzia mannii”, “Huperzia nutans”, and “Huperzia stemmermanniae”; and

v. Adding, in alphabetical order, entries for “Menisciopsis boydiae”, “Phlegmariurus mannii”, “Phlegmariurus nutans”, and “Phlegmariurus stemmermanniae”.

The revisions and additions read as follows:

§ 17.12 Endangered and threatened plants.

* * * * *

(h) * * *

Scientific name | Common name | Where listed | Status | Listing citations and applicable rules
Flowering Plants
* * * * * * *
Abutilon menziesii | Kooloaula | Wherever found | E | 51 FR 34412, 9/26/1986.
* * * * * * *
Argyroxiphium sandwicense ssp. macrocephalum | Ahinahina | Wherever found | T | 57 FR 20772, 5/15/1992; 50 CFR 17.99(e)(1).CH
Argyroxiphium sandwicense ssp. sandwicense | Ahinahina | Wherever found | E | 51 FR 9814, 3/21/1986.
* * * * * * *
Cyanea gibsonii | Haha | Wherever found | E | 56 FR 47686, 9/20/1991.
* * * * * * *
Cyanea humboldtiana | Haha | Wherever found | E | 61 FR 53089, 10/10/1996; 50 CFR 17.99(i).CH
* * * * * * *
Cyanea platyphylla | Haha, akuaku | Wherever found | E | 61 FR 53137, 10/10/1996; 50 CFR 17.99(k).CH
* * * * * * *
Cyanea rivularis | Haha | Wherever found | E | 61 FR 53070, 10/10/1996; 50 CFR 17.99(a)(1).CH
* * * * * * *
Cyrtandra crenata | Haiwale | Wherever found | E | 59 FR 14482, 3/28/1994.
* * * * * * *
Cyrtandra kealiae ssp. kealiae | Haiwale | Wherever found | T | 59 FR 9304, 2/25/1994; 50 CFR 17.99(a)(1).CH
* * * * * * *
Dracaena fernaldii | Hala pepe | Wherever found | E | 78 FR 32014, 5/28/2013.
Dracaena forbesii | Hala pepe | Wherever found | E | 77 FR 57648, 9/18/2012; 50 CFR 17.99(i).CH
Dracaena konaensis | Hala pepe | Wherever found | E | 61 FR 53137, 10/10/1996; 50 CFR 17.99(k).CH
* * * * * * *
Euphorbia skottsbergii var. skottsbergi | Akoko | Wherever found | E | 47 FR 36846, 8/24/1982; 50 CFR 17.99(i).CH
* * * * * * *
Gardenia brighamii | Nanu | Wherever found | E | 50 FR 33728, 8/21/1985.
* * * * * * *
Kadua cookiana | Awiwi | Wherever found | E | 59 FR 9304, 2/25/1994; 50 CFR 17.99(a)(1).CH
* * * * * * *
Kanaloa kahoolawensis | Ka palupalu o Kanaloa, Kohe malama malama o Kanaloa | Wherever found | E | 64 FR 48307, 9/3/1999; 50 CFR 17.99(e)(2).CH
* * * * * * *
Kokia cookei | Kokio | Wherever found | E | 44 FR 62470, 10/30/1979; 50 CFR 17.99(c).CH
Kokia drynarioides | Kokio | Wherever found | E | 49 FR 47397, 12/4/1984; 50 CFR 17.96(a).CH
Kokia kauaiensis | Kokio | Wherever found | E | 61 FR 53070, 10/10/1996; 50 CFR 17.99(a)(1).CH
* * * * * * *
Limnanthes pumila ssp. grandiflora | Large-flowered woolly meadowfoam | Wherever found | E | 67 FR 68004, 11/7/2002; 50 CFR 17.96(a).CH
* * * * * * *
Melicope cornuta var. cornuta | No common name | Wherever found | E | 77 FR 57648, 9/18/2012; 50 CFR 17.99(i).CH
Melicope cornuta var. decurrens | No common name | Wherever found | E | 77 FR 57648, 9/18/2012; 50 CFR 17.99(i).CH
* * * * * * *
Melicope remyi | No common name | Wherever found | E | 78 FR 64638, 10/29/2013.
Melicope rostrata | Pilo kea lau lii | Wherever found | E | 75 FR 18960, 4/13/2010; 50 CFR 17.99(a)(1).CH
* * * * * * *
Mezoneuron kavaiense | Uhiuhi | Wherever found | E | 51 FR 24672, 7/8/1986.
* * * * * * *
Mucuna persericea | Sea bean | Wherever found | E | 78 FR 32014, 5/28/2013; 50 CFR 17.99(e)(1).CH
* * * * * * *
Plantago hawaiensis | Laukahi kuahiwi | Wherever found | E | 59 FR 10305, 3/4/1994; 50 CFR 17.99(k).CH
* * * * * * *
Psychotria hexandra var. oahuensis | Kopiko | Wherever found | E | 77 FR 57648, 9/18/2012; 50 CFR 17.99(i).CH
* * * * * * *
Conifers and Allies
* * * * * * *
Cycas micronesica | Fadang, faadang | Wherever found | T | 80 FR 59424, 10/1/2015.
* * * * * * *
Ferns and Allies
* * * * * * *
Adenophorus periens | Palai laau | Wherever found | E | 59 FR 56333, 11/10/1994; 50 CFR 17.99(a)(1); CH 50 CFR 17.99(e)(1); CH 50 CFR 17.99(i); CH 50 CFR 17.99(k).CH
* * * * * * *
Asplenium dielerectum | No common name | Wherever found | E | 59 FR 56333, 11/10/1994; 50 CFR 17.99(a)(1); CH 50 CFR 17.99(c); CH 50 CFR 17.99(e)(1);CH 50 CFR 17.99(i); CH 50 CFR 17.99(k).CH
* * * * * * *
Asplenium (=Diellia) dielfalcatum (=falcata) | No common name | Wherever found | E | 56 FR 55770, 10/29/1991; 50 CFR 17.99(i).CH
* * * * * * *
Asplenium (=Diellia) dielpallidum (=pallida) | No common name | Wherever found | E | 59 FR 9304, 2/25/1994; 50 CFR 17.99(a)(1).CH
* * * * * * *
Menisciopsis boydiae | Kupukupu makalii | Wherever found | E | 81 FR 67786, 9/30/2016.
* * * * * * *
Phlegmariurus mannii | Wawaeiole | Wherever found | E | 57 FR 20772, 5/15/1992; 50 CFR 17.99(e)(1).CH
Phlegmariurus nutans | Wawaeiole | Wherever found | E | 59 FR 14482, 3/28/1994; 50 CFR 17.99(a)(1); CH 50 CFR 17.99(i).CH
Phlegmariurus stemmermanniae | No common name | Wherever found | E | 81 FR 67786, 9/30/2016.
* * * * * * *

§ 17.84 [Amended]

4. In § 17.84, amend paragraph (f) introductory text by removing the word “Rallus” and adding in its place the word “Gallirallus”.

5. Amend § 17.95, in paragraph (b), by:

a. In the entry “Guam Micronesian Kingfisher (Halcyon cinnamomina cinnamomina)”:

i. Removing the heading “Guam Micronesian Kingfisher (Halcyon cinnamomina cinnamomina)” and adding in its place the heading “Guam Kingfisher (Todiramphus cinnamominus)”;

ii. In paragraph (1) and the introductory text of paragraph (2), removing the word “Micronesian”;

iii. Revising the introductory text of paragraph (4)(i);

iv. In the introductory text of paragraph (4)(ii), removing the word “Micronesian”; and

v. Revising the introductory text of paragraph (4)(ii)(B); and

b. In the entry “Rota Bridled White-eye (Zosterops rotensis)”:

i. Removing the heading “Rota Bridled White-eye (Zosterops rotensis)” and adding in its place the heading “Rota White-eye (Zosterops rotensis)”;

ii. In the introductory text of paragraphs (2) and (5), removing the word “bridled”; and

iii. Revising the introductory text of paragraph (5)(ii).

The revisions read as follows:

§ 17.95 Critical habitat—fish and wildlife.

* * * * *

(b) Birds.

* * * * *

Guam Kingfisher (Todiramphus cinnamominus)

* * * * *

(4) * * *

(i) Note: The reference to “Guam Micronesian Kingfisher” on the map is equivalent to “Guam Kingfisher.” Map 1 showing the general location of the Guam kingfisher unit follows:

* * * * *

(ii) * * *

(B) Note: The reference to “Guam Micronesian Kingfisher” on the map is equivalent to “Guam Kingfisher.” Map 2 showing Guam kingfisher unit follows:

* * * * *

Rota White-eye (Zosterops rotensis)

* * * * *

(5) * * *

(ii) Note: The reference to “Rota Bridled White-eye” on the map is equivalent to “Rota White-eye.” Map 1 of the critical habitat for Rota white-eye follows:

* * * * *

6. Amend § 17.96, in paragraph (a), the entry for “Family Limnanthaceae: Limnanthes floccosa ssp. grandiflora (large-flowered woolly meadowfoam)”, by:

a. Removing the heading “Family Limnanthaceae: Limnanthes floccosa ssp. grandiflora (large-flowered woolly meadowfoam)” and adding in its place the heading “Family Limnanthaceae: Limnanthes pumila ssp. grandiflora (large-flowered woolly meadowfoam)”;

b. In the introductory text of paragraphs (2) and (2)(i), and in paragraph (2)(iv), removing the word “floccosa” and adding in its place the word “pumila”;

c. Revising the introductory text of paragraph (5);

d. In the introductory text of paragraph (6), removing the word “floccosa” and adding in its place the word “pumila”;

e. Revising the introductory text of paragraph (6)(ii);

f. In the introductory text of paragraph (7), removing the word “floccosa” and adding in its place the word “pumila”;

g. Revising the introductory text of paragraph (7)(ii);

h. In the introductory text of paragraph (8), removing the word “floccosa” and adding in its place the word “pumila”;

i. Revising the introductory text of paragraph (8)(ii);

j. In the introductory text of paragraph (9), removing the word “floccosa” and adding in its place the word “pumila”;

k. Revising the introductory text of paragraph (9)(ii);

l. In the introductory text of paragraph (10), removing the word “floccosa” and adding in its place the word “pumila”;

m. Revising the introductory text of paragraph (10)(ii);

n. In the introductory text of paragraphs (11) and (11)(i), removing the word “floccosa” and adding in its place the word “pumila”;

o. Revising the introductory text of paragraph (11)(ii);

p. In the introductory text of paragraph (12), removing the word “floccosa” and adding in its place the word “pumila”;

q. Revising the introductory text of paragraph (12)(ii);

r. In the introductory text of paragraph (13), removing the word “floccosa” and adding in its place the word “pumila”; and

s. Revising the introductory text of paragraph (13)(ii).

The revisions read as follows:

§ 17.96 Critical habitat—plants.

(a) Flowering plants.

* * * * *

Family Limnanthaceae: Limnanthes pumila ssp. grandiflora (large-flowered woolly meadowfoam)

* * * * *

(5) Note: The reference to “Limnanthes floccosa ssp. grandiflora” on the map is equivalent to “Limnanthes pumila ssp. grandiflora.” Index map for critical habitat in Jackson County, Oregon, follows:

* * * * *

(6) * * *

(ii) Note: The reference to “Limnanthes floccosa ssp. grandiflora” on the map is equivalent to “Limnanthes pumila ssp. grandiflora.” Map of Unit RV1 follows:

* * * * *

(7) * * *

(ii) Note: The reference to “Limnanthes floccosa ssp. grandiflora” on the map is equivalent to “Limnanthes pumila ssp. grandiflora.” Map of Unit RV2 follows:

* * * * *

(8) * * *

(ii) Note: The reference to “Limnanthes floccosa ssp. grandiflora” on the map is equivalent to “Limnanthes pumila ssp. grandiflora.” Map of Unit RV3 follows:

* * * * *

(9) * * *

(ii) Note: The reference to “Limnanthes floccosa ssp. grandiflora” on the map is equivalent to “Limnanthes pumila ssp. grandiflora.” Map of Unit RV4 follows:

* * * * *

(10) * * *

(ii) Note: The reference to “Limnanthes floccosa ssp. grandiflora” on the map is equivalent to “Limnanthes pumila ssp. grandiflora.” Map of Unit RV5 follows:

* * * * *

(11) * * *

(ii) Note: The reference to “Limnanthes floccosa ssp. grandiflora” on the map is equivalent to “Limnanthes pumila ssp. grandiflora.” Map of Unit RV6 follows:

* * * * *

(12) * * *

(ii) Note: The reference to “Limnanthes floccosa ssp. grandiflora” on the map is equivalent to “Limnanthes pumila ssp. grandiflora.” Map of Unit RV7 follows:

* * * * *

(13) * * *

(ii) Note: The reference to “Limnanthes floccosa ssp. grandiflora” on the map is equivalent to “Limnanthes pumila ssp. grandiflora.” Map of Unit RV8 follows:

* * * * *

7. Amend § 17.99 as follows:

a. In paragraph (a)(1), by:

i. In paragraph (a)(1)(vi)(A), removing the words “Kauai 4-Platydesma rostrata-a” and adding in their place the words “Kauai 4-Melicope rostrata-a”;

ii. Revising paragraph (a)(1)(vi)(B) introductory text;

iii. In paragraph (a)(1)(xiv) introductory text, removing the words “Kauai 4-Cyrtandra limahuliensis-a” and adding in their place the words “Kauai 4-Cyrtandra kealiae ssp. kealiae-a”;

iv. Revising paragraph (a)(1)(xiv)(B) introductory text;

v. In paragraph (a)(1)(xv) introductory text, removing the words “Kauai 4—Cyrtandra limahuliensis—b” and adding in their place the words “Kauai 4—Cyrtandra kealiae ssp. kealiae—b”;

vi. Revising paragraph (a)(1)(xv)(B) introductory text;

vii. In paragraph (a)(1)(xxix) introductory text, removing the words “Kauai 4—Platydesma rostrata—a” and adding in their place the words “Kauai 4—Melicope rostrata—a”;

viii. In paragraph (a)(1)(xxxiv)(A), removing the words “Kauai 7—Platydesma rostrata—b” and adding in their place the words “Kauai 7—Melicope rostrata—b”;

ix. Revising paragraph (a)(1)(xxxiv)(B) introductory text;

x. In paragraph (a)(1)(xlix) introductory text, removing the words “Kauai 7—Platydesma rostrata—b” and adding in their place the words “Kauai 7—Melicope rostrata—b”;

xi. In paragraph (a)(1)(lvii)(A), removing the words “Kauai 10—Platydesma rostrata—c” and adding in their place the words “Kauai 10—Melicope rostrata—c”;

xii. Revising paragraph (a)(1)(lvii)(B) introductory text;

xiii. In paragraph (a)(1)(lix)(A), removing the words “Kauai 10—Platydesma rostrata—d” and adding in their place the words “Kauai 10—Melicope rostrata—d”;

xiv. Revising paragraph (a)(1)(lix)(B) introductory text;

xv. In paragraph (a)(1)(lx)(A), removing the words “Kauai 10—Platydesma rostrata—e” and adding in their place the words “Kauai 10—Melicope rostrata—e”;

xvi. Revising paragraph (a)(1)(lx)(B) introductory text;

xvii. In paragraph (a)(1)(lxxii) introductory text, removing the words “Kauai 10—Cyrtandra limahuliensis—c” and adding in their place the words “Kauai 10—Cyrtandra kealiae ssp. kealiae—c”;

xviii. Revising paragraph (a)(1)(lxxii)(B) introductory text;

xix. In paragraph (a)(1)(civ) introductory text, removing the words “Kauai 10—Huperzia nutans—a” and adding in their place the words “Kauai 10—Phlegmariurus nutans—a”;

xx. Revising paragraph (a)(1)(civ)(B) introductory text;

xxi. In paragraph (a)(1)(cviii) introductory text, removing the words “Kauai 10—Platydesma rostrata—c” and adding in their place the words “Kauai 10—Melicope rostrata—c”;

xxii. In paragraph (a)(1)(cix) introductory text, removing the words “Kauai 10—Platydesma rostrata—d” and adding in their place the words “Kauai 10—Melicope rostrata—d”;

xxiii. In paragraph (a)(1)(cx) introductory text, removing the words “Kauai 10—Platydesma rostrata—e” and adding in their place the words “Kauai 10—Melicope rostrata—e”;

xxiv. In paragraph (a)(1)(cxxx)(A), removing the words “Kauai 11—Platydesma rostrata—f” and adding in their place the words “Kauai 11—Melicope rostrata—f”;

xxv. Revising paragraph (a)(1)(cxxx)(B) introductory text;

xxvi. In paragraph (a)(1)(cxxxiii)(A), removing the words “Kauai 11—Platydesma rostrata—g” and adding in their place the words “Kauai 11—Melicope rostrata—g”;

xxvii. Revising paragraph (a)(1)(cxxxiii)(B) introductory text;

xxviii. In paragraph (a)(1)(cxl)(A), removing the words “Kauai 11—Platydesma rostrata—h” and adding in their place the words “Kauai 11—Melicope rostrata—h”;

xxix. Revising paragraph (a)(1)(cxl)(B) introductory text;

xxx. In paragraph (a)(1)(cxli)(A), removing the words “Kauai 11—Platydesma rostrata—i” and adding in their place the words “Kauai 11—Melicope rostrata—i”;

xxxi. Revising paragraph (a)(1)(cxli)(B) introductory text;

xxxii. In paragraph (a)(1)(cxlvi)(A), removing the words “Kauai 11—Platydesma rostrata—j” and adding in their place the words “Kauai 11—Melicope rostrata—j”;

xxxiii. Revising paragraph (a)(1)(cxlvi)(B) introductory text;

xxxiv. In paragraph (a)(1)(clxi) introductory text, removing the words “Kauai 11—Cyrtandra limahuliensis—d” and adding in their place the words “Kauai 11—Cyrtandra kealiae ssp. kealiae—d”;

xxxv. Revising paragraph (a)(1)(clxi)(B) introductory text;

xxxvi. In paragraph (a)(1)(clxii) introductory text, removing the words “Kauai 11—Cyrtandra limahuliensis—e” and adding in their place the words “Kauai 11—Cyrtandra kealiae ssp. kealiae—e”;

xxxvii. Revising paragraph (a)(1)(clxii)(B) introductory text;

xxxviii. In paragraph (a)(1)(clxviii) introductory text, removing the words “Kauai 11—Delissea rivularis—a” and adding in their place the words “Kauai 11—Cyanea rivularis—a”;

xxxix. Revising paragraph (a)(1)(clxviii)(B) introductory text;

xl. In paragraph (a)(1)(clxxiii) introductory text, removing the words “Kauai 11—Diellia pallida—a” and adding in their place the words “Kauai 11—Asplenium dielpallidum-a”;

xli. Revising paragraph (a)(1)(clxxiii)(B) introductory text;

xlii. In paragraph (a)(1)(clxxiv) introductory text, removing the words “Kauai 11—Diellia pallida—b” and adding in their place the words “Kauai 11—Asplenium dielpallidum—b”;

xliii. Revising paragraph (a)(1)(clxxiv)(B) introductory text;

xliv. In paragraph (a)(1)(cciii) introductory text, removing the words “Kauai 11—Hedyotis cookiana—a” and adding in their place the words “Kauai 11—Kadua cookiana—a”;

xlv. Revising paragraph (a)(1)(cciii)(B) introductory text;

xlvi. In paragraph (a)(1)(cclxxvii) introductory text, removing the words “Kauai 11—Platydesma rostrata—f” and adding in their place the words “Kauai 11—Melicope rostrata—f”;

xlvii. In paragraph (a)(1)(cclxxviii) introductory text, removing the words “Kauai 11—Platydesma rostrata—g” and adding in their place the words “Kauai 11—Melicope rostrata—g”;

xlviii. In paragraph (a)(1)(cclxxix) introductory text, removing the words “Kauai 11—Platydesma rostrata—h” and adding in their place the words “Kauai 11—Melicope rostrata—h”;

xlix. In paragraph (a)(1)(cclxxx) introductory text, removing the words “Kauai 11—Platydesma rostrata—i” and adding in their place the words “Kauai 11—Melicope rostrata—i”;

l. In paragraph (a)(1)(cclxxxi) introductory text, removing the words “Kauai 11—Platydesma rostrata—j” and adding in their place the words “Kauai 11—Melicope rostrata—j”;

li. In paragraph (a)(1)(cccli)(A), removing the words “Kauai 18—Platydesma rostrata—k” and adding in their place the words “Kauai 18—Melicope rostrata—k”;

lii. Revising paragraph (a)(1)(cccli)(B) introductory text;

liii. In paragraph (a)(1)(ccclx) introductory text, removing the words “Kauai 18—Platydesma rostrata—k” and adding in their place the words “Kauai 18—Melicope rostrata—k”;

liv. In paragraph (a)(1)(ccclxi)(A), removing the words “Kauai 19—Platydesma rostrata—l” and adding in their place the words “Kauai 19—Melicope rostrata—l”;

lv. Revising paragraph (a)(1)(ccclxi)(B) introductory text;

lvi. In paragraph (a)(1)(ccclxx) introductory text, removing the words “Kauai 19—Platydesma rostrata—l” and adding in their place the words “Kauai 19—Melicope rostrata—l”;

lvii. In paragraph (a)(1)(ccclxxi)(A), removing the words “Kauai 20—Platydesma rostrata—m” and adding in their place the words “Kauai 20—Melicope rostrata—m”;

lviii. Revising paragraph (a)(1)(ccclxxi)(B) introductory text;

lix. In paragraph (a)(1)(ccclxxxiii) introductory text, removing the words “Kauai 20—Platydesma rostrata—m” and adding in their place the words “Kauai 20—Melicope rostrata—m”;

lx. In paragraph (a)(1)(ccclxxxvii)(A), removing the words “Kauai 21—Platydesma rostrata—n” and adding in their place the words “Kauai 21—Melicope rostrata—n”;

lxi. Revising paragraph (a)(1)(ccclxxxvii)(B) introductory text;

lxii. In paragraph (a)(1)(cccxcii) introductory text, “Kauai 21—Platydesma rostrata—o” and adding in their place the words “Kauai 21—Melicope rostrata—n”;

lxiii. In paragraph (a)(1)(cccxcvi)(A), removing the words “Kauai 22—Platydesma rostrata—o” and adding in their place the words “Kauai 22—Melicope rostrata—o”;

lxiv. Revising paragraph (a)(1)(cccxcvi)(B) introductory text;

lxv. In paragraph (a)(1)(cdi) introductory text, removing the words “Kauai 22—Platydesma rostrata—o” and adding in their place the words “Kauai 22—Melicope rostrata—o”;

lxvi. In paragraph (a)(1)(cdv)(A), removing the words “Kauai 23—Platydesma rostrata—p” and adding in their place the words “Kauai 23—Melicope rostrata—p”;

lxvii. Revising paragraph (a)(1)(cdv)(B) introductory text;

lxviii. In paragraph (a)(1)(cdxx) introductory text, removing the words “Kauai 23—Platydesma rostrata—p” and adding in their place the words “Kauai 23—Melicope rostrata—p”;

lxix. In paragraph (a)(1)(cdxxiii)(A), removing the words “Kauai 24—Platydesma rostrata—q” and adding in their place the words “Kauai 24—Melicope rostrata—q”;

lxx. Revising paragraph (a)(1)(cdxxiii)(B) introductory text;

lxxi. In paragraph (a)(1)(cdxxxviii) introductory text, removing the words “Kauai 24—Platydesma rostrata—q” and adding in their place the words “Kauai 24—Melicope rostrata—q”;

lxxii. In paragraph (a)(1)(cdxli)(A), removing the words “Kauai 25—Platydesma rostrata—r” and adding in their place the words “Kauai 25—Melicope rostrata—r”;

lxxiii. Revising paragraph (a)(1)(cdxli)(B) introductory text;

lxxiv. In paragraph (a)(1)(cdlvi) introductory text, removing the words “Kauai 25—Platydesma rostrata—r” and adding in their place the words “Kauai 25—Melicope rostrata—r”; and

lxxv. In paragraph (a)(1)(cdlix), the Table of Protected Species Within Each Critical Habitat Unit for Kauai:

1. Removing the entries for “Kauai 4—Cyrtandra limahuliensis—a”, “Kauai 4—Cyrtandra limahuliensis—b”, “Kauai 4—Platydesma rostrata—a”, “Kauai 7—Platydesma rostrata—b”, “Kauai 10—Cyrtandra limahuliensis—c”, “Kauai 10—Huperzia nutans—a”, “Kauai 10—Platydesma rostrata—c”, “Kauai 10—Platydesma rostrata—d”, “Kauai 10—Platydesma rostrata—e”, “Kauai 11—Cyrtandra limahuliensis—d”, “Kauai 11—Cyrtandra limahuliensis—e”, “Kauai 11—Delissea rivularis—a”, “Kauai 11—Diellia pallida—a”, “Kauai 11—Diellia pallida—b”, “Kauai 11—Hedyotis cookiana—a”, “Kauai 11—Platydesma rostrata—f”, “Kauai 11—Platydesma rostrata—g”, “Kauai 11—Platydesma rostrata—h”, “Kauai 11—Platydesma rostrata—i”, “Kauai 11—Platydesma rostrata—j”, “Kauai 18—Platydesma rostrata—k”, “Kauai 19—Platydesma rostrata—l”, “Kauai 20—Platydesma rostrata—m”, “Kauai 21—Platydesma rostrata—n”, “Kauai 22—Platydesma rostrata—o”, “Kauai 23—Platydesma rostrata—p”, “Kauai 24—Platydesma rostrata—q”, and “Kauai 25—Platydesma rostrata—r”; and

2. Adding, in order by unit number and then alphabetical order by scientific name within the unit, entries for “Kauai 4—Cyrtandra kealiae ssp. kealiae—a”, “Kauai 4—Cyrtandra kealiae ssp. kealiae—b”, “Kauai 4—Melicope rostrata—a”, “Kauai 7—Melicope rostrata—b”, “Kauai 10—Cyrtandra kealiae ssp. kealiae—c”, “Kauai 10—Melicope rostrata—c”, “Kauai 10—Melicope rostrata—d”, “Kauai 10—Melicope rostrata—e”, “Kauai 10—Phlegmariurus nutans—a”, “Kauai 11—Asplenium dielpallidum—a”, “Kauai 11—Asplenium dielpallidum—b”, “Kauai 11—Cyanea rivularis—a”, “Kauai 11—Cyrtandra kealiae ssp. kealiae—d”, “Kauai 11—Cyrtandra kealiae ssp. kealiae—e”, “Kauai 11—Kadua cookiana—a”, “Kauai 11—Melicope rostrata—f”, “Kauai 11—Melicope rostrata—g”, “Kauai 11—Melicope rostrata—h”, “Kauai 11—Melicope rostrata—i”, “Kauai 11—Melicope rostrata—j”, “Kauai 18—Melicope rostrata—k”, “Kauai 19—Melicope rostrata—l”, “Kauai 20—Melicope rostrata—m”, “Kauai 21—Melicope rostrata—n”, “Kauai 22—Melicope rostrata—o”, “Kauai 23—Melicope rostrata—p”, “Kauai 24—Melicope rostrata—q”, and “Kauai 25—Melicope rostrata—r”;

b. In paragraph (b)(1), by:

i. Removing the heading “Family Campanulaceae: Delissea rivularis (oha)” and adding in its place the heading “Family Campanulaceae: Cyanea rivularis (oha)”;

ii. Under the new heading “Family Campanulaceae: Cyanea rivularis (oha)”, in the introductory text:

1. Removing the words “Kauai 11—Delissea rivularis—a” and adding in their place the words “Kauai 11—Cyanea rivularis—a”; and

2. Removing the words “Delissea rivularis” and adding in their place the words “Cyanea rivularis”;

iii. Removing the heading “Family Gesneriaceae: Cyrtandra limahuliensis (haiwale)” and adding in its place the heading “Family Gesneriaceae: Cyrtandra kealiae ssp. kealiae (haiwale)”;

iv. Under the new heading “Family Gesneriaceae: Cyrtandra kealiae ssp. kealiae (haiwale)”, revising the introductory text;

v. Removing the heading “Family Rubiaceae: Hedyotis cookiana (awiwi)” and adding in its place the heading “Family Rubiaceae: Kadua cookiana (awiwi)”;

vi. Under the new heading “Family Rubiaceae: Kadua cookiana (awiwi)”, in the introductory text:

1. Removing the words “Kauai 11—Hedyotis cookiana—a” and adding in their place the words “Kauai 11—Kadua cookiana—a”; and

2. Removing the words “Hedyotis cookiana” and adding in their place the words “Kadua cookiana”;

vii. Removing the heading “Family Rutaceae: Platydesma rostrata (pilo kea lau lii)” and adding in its place the heading “Family Rutaceae: Melicope rostrata (pilo kea lau lii)”; and

viii. Under the new heading “Family Rutaceae: Melicope rostrata (pilo kea lau lii)”, revising the entry's introductory text and the introductory text of paragraphs (i), (ii), (iii), (iv), and (v);

c. In paragraph (b)(2), by:

i. Removing the heading “Family Aspleniaceae: Asplenium dielerectum (asplenium-leaved diellia” and adding in its place the heading “Family Aspleniaceae: Asplenium dielerectum (no common name)”;

ii. Removing the heading “Family Aspleniaceae: Diellia pallida (no common name)” and adding in its place the heading “Family Aspleniaceae: Asplenium dielpallidum (no common name)”;

iii. Under the new heading “Family Aspleniaceae: Asplenium dielpallidum (no common name)”, revising the introductory text;

iv. Removing the heading “Family Grammitidaceae: Adenophorus periens (pendent kihi fern)” and adding in its place the heading “Family Grammitidaceae: Adenophorus periens (palai laau)”;

v. Removing the heading “Family Lycopodiaceae: Huperzia nutans (wawaeiole)” and adding in its place the heading “Family Lycopodiaceae: Phlegmariurus nutans (wawaeiole)”; and

vi. Under the new heading “Family Lycopodiaceae: Phlegmariurus nutans (wawaeiole)”, in the introductory text:

1. Removing the words “Kauai 10—Huperzia nutans—a” and adding in their place the words “Kauai 10—Phlegmariurus nutans—a”; and

2. Removing the words “Huperzia nutans” and adding in their place the words “Phlegmariurus nutans”;

d. In paragraph (d)(1), under Family Malvaceae, by removing the heading “Kokia cookei (COOKE'S KOKIO)” and adding in its place the heading “Kokia cookei (KOKIO)”;

e. In paragraph (d)(2), by:

i. Under Family Aspleniaceae, removing the heading “Asplenium dielerectum (ASPLENIUM-LEAVED DIELLIA)” and adding in its place the heading “Asplenium dielerectum (NCN)”; and

ii. Under Family Grammitidaceae, removing the heading “Adenophorus periens (PENDANT KIHI FERN)” and adding in its place the heading “Adenophorus periens (PALAI LAAU)”;

f. In paragraph (e)(1), by:

i. In paragraph (e)(1)(xii)(A), removing the words “Huperzia mannii” and adding in their place the words “Phlegmariurus mannii”;

ii. In paragraph (e)(1)(xiv)(A):

1. Removing the words “Huperzia mannii” and adding in their place the words “Phlegmariurus mannii”; and

2. Removing the words “Mucuna sloanei var. persericea” and adding in their place the words “Mucuna persericea”;

iii. In paragraph (e)(1)(xv)(A), removing the words “Huperzia mannii” and adding in their place the words “Phlegmariurus mannii”;

iv. In paragraph (e)(1)(xvi)(A), removing the words “Huperzia mannii” and adding in their place the words “Phlegmariurus mannii”;

v. Immediately following paragraph (e)(1)(xvi), after Map 16, adding paragraph (e)(1)(xvii) introductory text;

vi. In paragraph (e)(1)(xvii)(A), removing the words “Huperzia mannii” and adding in their place the words “Phlegmariurus mannii”;

vii. In paragraph (e)(1)(xviii)(A), removing the words “Huperzia mannii” and adding in their place the words “Phlegmariurus mannii”;

viii. In paragraph (e)(1)(xix)(A), removing the words “Huperzia mannii” and adding in their place the words “Phlegmariurus mannii”;

ix. In paragraph (e)(1)(xx)(A), removing the words “Huperzia mannii” and adding in their place the words “Phlegmariurus mannii”; and

x. In paragraph (e)(1)(xxix), the table titled “Occupancy of Species by Designated Critical Habitat Units for Maui,” revising the entries for Maui—Lowland Mesic—Unit 1, Maui—Lowland Wet—Unit 1, Maui—Lowland Wet—Unit 2, Maui—Lowland Wet—Unit 3, Maui—Lowland Wet—Unit 4, Maui—Lowland Wet—Unit 5, Maui—Lowland Wet—Unit 6, Maui—Lowland Wet—Unit 7, Maui—Lowland Wet—Unit 8, Maui—Montane Wet—Unit 1, Maui—Montane Wet—Unit 2, Maui—Montane Wet—Unit 3, Maui—Montane Wet—Unit 4, Maui—Montane Wet—Unit 5, Maui—Montane Wet—Unit 6, Maui—Montane Wet—Unit 7, Maui—Montane Mesic—Unit 1, Maui—Montane Mesic—Unit 2, Maui—Montane Mesic—Unit 3, Maui—Montane Mesic—Unit 4, and Maui—Montane Mesic—Unit 5;

g. In paragraph (f)(1), under Family Fabaceae, by:

i. Removing the heading “Mucuna sloanei var. persericea (SEA BEAN)” and adding in its place the heading “Mucuna persericea (SEA BEAN)”; and

ii. Under the new heading “Mucuna persericea (SEA BEAN)”, in the introductory text, removing the words “Mucuna sloanei var. persericea” and adding in their place the words “Mucuna persericea”;

h. In paragraph (f)(2), by:

i. Under Family Aspleniaceae, removing the heading “Asplenium dielerectum (ASPLENIUM-LEAVED DIELLIA)” and adding in its place the heading “Asplenium dielerectum (NCN)”;

ii. Under Family Grammitidaceae, removing the heading “Adenophorus periens (PENDANT KIHI FERN)” and adding in its place the heading “Adenophorus periens (PALAI LAAU)”; and

iii. Under Family Lycopodiaceae:

1. Removing the heading “Huperzia mannii (WAWAEIOLE)” and adding in its place the heading “Phlegmariurus mannii (WAWAEIOLE)”; and

2. Under the new heading “Phlegmariurus mannii (WAWAEIOLE)”, in the introductory text, removing the words “Huperzia mannii” and adding in their place the words “Phlegmariurus mannii”;

i. In paragraph (i), by:

i. In paragraph (i)(9)(i), removing the words “Pleomele forbesii” and adding in their place the words “Dracaena forbesii”;

ii. In paragraph (i)(12)(i), removing the words “Chamaesyce skottsbergii var. skottsbergii” and adding in their place the words “Euphorbia skottsbergii var. skottsbergii”;

iii. In paragraph (i)(13)(i):

1. Removing the words “Diellia falcata” and adding in their place the words “Asplenium dielfalcatum”;

2. Removing the words “Platydesma cornuta var. decurrens” and adding in their place the words “Melicope cornuta var. decurrens”; and

3. Removing the words “Pleomele forbesii” and adding in their place the words “Dracaena forbesii”;

iv. In paragraph (i)(14)(i):

1. Removing the words “Diellia falcata” and adding in their place the words “Asplenium dielfalcatum”;

2. Removing the words “Platydesma cornuta var. decurrens” and adding in their place the words “Melicope cornuta var. decurrens”; and

3. Removing the words “Pleomele forbesii” and adding in their place the words “Dracaena forbesii”;

v. In paragraph (i)(15)(i):

1. Removing the words “Diellia falcata” and adding in their place the words “Asplenium dielfalcatum”;

2. Removing the words “Platydesma cornuta var. decurrens” and adding in their place the words “Melicope cornuta var. decurrens”; and

3. Removing the words “Pleomele forbesii” and adding in their place the words “Dracaena forbesii”;

vi. In paragraph (i)(16)(i):

1. Removing the words “Diellia falcata” and adding in their place the words “Asplenium dielfalcatum”; and

2. Removing the words “Pleomele forbesii” and adding in their place the words “Dracaena forbesii”;

vii. In paragraph (i)(17)(i):

1. Removing the words “Diellia falcata” and adding in their place the words “Asplenium dielfalcatum”; and

2. Removing the words “Pleomele forbesii” and adding in their place the words “Dracaena forbesii”;

viii. In paragraph (i)(18)(i):

1. Removing the words “Diellia falcata” and adding in their place the words “Asplenium dielfalcatum”; and

2. Removing the words “Pleomele forbesii” and adding in their place the words “Dracaena forbesii”;

ix. In paragraph (i)(22)(i):

1. Removing the words “Huperzia nutans” and adding in their place the words “Phlegmariurus nutans”;

2. Removing the words “Platydesma cornuta var. cornuta” and adding in their place the words “Melicope cornuta var. cornuta”; and

3. Removing the words “Psychotria hexandra ssp. oahuensis” and adding in their place the words “Psychotria hexandra var. oahuensis”;

x. In paragraph (i)(23)(i):

1. Removing the words “Huperzia nutans” and adding in their place the words “Phlegmariurus nutans”;

2. Removing the words “Platydesma cornuta var. cornuta” and adding in their place the words “Melicope cornuta var. cornuta”; and

3. Removing the words “Psychotria hexandra ssp. oahuensis” and adding in their place the words “Psychotria hexandra var. oahuensis”;

xi. In paragraph (i)(24)(i):

1. Removing the words “Huperzia nutans” and adding in their place the words “Phlegmariurus nutans”;

2. Removing the words “Platydesma cornuta var. cornuta” and adding in their place the words “Melicope cornuta var. cornuta”; and

3. Removing the words “Psychotria hexandra ssp. oahuensis” and adding in their place the words “Psychotria hexandra var. oahuensis”;

xii. In paragraph (i)(25)(i):

1. Removing the words “Huperzia nutans” and adding in their place the words “Phlegmariurus nutans”;

2. Removing the words “Platydesma cornuta var. cornuta” and adding in their place the words “Melicope cornuta var. cornuta”; and

3. Removing the words “Psychotria hexandra ssp. oahuensis” and adding in their place the words “Psychotria hexandra var. oahuensis”;

xiii. In paragraph (i)(27)(i):

1. Removing the words “Diellia falcata” and adding in their place the words “Asplenium dielfalcatum”;

2. Removing the words “Platydesma cornuta var. decurrens” and adding in their place the words “Melicope cornuta var. decurrens”; and

3. Removing the words “Pleomele forbesii” and adding in their place the words “Dracaena forbesii”;

xiv. In paragraph (i)(28)(i):

1. Removing the words “Diellia falcata” and adding in their place the words “Asplenium dielfalcatum”;

2. Removing the words “Platydesma cornuta var. decurrens” and adding in their place the words “Melicope cornuta var. decurrens”; and

3. Removing the words “Pleomele forbesii” and adding in their place the words “Dracaena forbesii”;

xv. In paragraph (i)(29)(i):

1. Removing the words “Diellia falcata” and adding in their place the words “Asplenium dielfalcatum”;

2. Removing the words “Platydesma cornuta var. decurrens” and adding in their place the words “Melicope cornuta var. decurrens”; and

3. Removing the words “Pleomele forbesii” and adding in their place the words “Dracaena forbesii”;

xvi. In paragraph (i)(33)(i):

1. Removing the words “Huperzia nutans” and adding in their place the words “Phlegmariurus nutans”; and

2. Removing the words “Psychotria hexandra ssp. oahuensis” and adding in their place the words “Psychotria hexandra var. oahuensis”;

xvii. In paragraph (i)(34)(i):

1. Removing the words “Huperzia nutans” and adding in their place the words “Phlegmariurus nutans”; and

2. Removing the words “Psychotria hexandra ssp. oahuensis” and adding in their place the words “Psychotria hexandra var. oahuensis”; and

xviii. In paragraph (i)(35), the “Table of Protected Species Within Each Critical Habitat Unit for Oahu,” revising the entries for Oahu—Lowland Dry—Unit 1, Oahu—Lowland Dry—Unit 2, Oahu—Lowland Dry—Unit 8, Oahu—Lowland Dry—Unit 9, Oahu—Lowland Dry—Unit 10, Oahu—Lowland Dry—Unit 11, Oahu—Lowland Mesic—Unit 1, Oahu—Lowland Mesic—Unit 2, Oahu—Lowland Mesic—Unit 3, Oahu—Lowland Mesic—Unit 4, Oahu—Lowland Mesic—Unit 5, Oahu—Lowland Mesic—Unit 6, Oahu—Lowland Mesic—Unit 7, Oahu—Lowland Wet—Unit 6, Oahu—Lowland Wet-Unit 7, Oahu—Lowland Wet—Unit 8, Oahu—Lowland Wet—Unit 9, Oahu—Lowland Wet—Unit 10, Oahu—Lowland Wet—Unit 11, Oahu—Lowland Wet—Unit 12, Oahu—Lowland Wet—Unit 13, Oahu—Lowland Wet—Unit 14, Oahu—Lowland Wet—Unit 15, Oahu—Lowland Wet—Unit 16, Oahu—Dry Cliff—Unit 1, Oahu—Dry Cliff—Unit 2, Oahu—Dry Cliff-Unit 3, Oahu—Dry Cliff-Unit 4, Oahu—Dry Cliff—Unit 5, Oahu—Dry Cliff—Unit 6, Oahu—Dry Cliff—Unit 7, Oahu-Dry Cliff—Unit 7a, Oahu—Dry Cliff—Unit 7b, Oahu—Dry Cliff—Unit 8, Oahu—Wet Cliff—Unit 6, Oahu—Wet Cliff—Unit 7, and Oahu—Wet Cliff—Unit 8;

j. In paragraph (j)(1), by:

i. Under Family Asparagaceae:

1. Removing the heading “Pleomele forbesii (HALA PEPE)” and adding in its place the heading “Dracaena forbesii (HALA PEPE)”; and

2. Under the new heading “Dracaena forbesii (HALA PEPE)”, in the introductory text, removing the words “Pleomele forbesii” and adding in their place the words “Dracaena forbesii”;

ii. Under Family Euphorbiaceae:

1. Removing the heading “Chamaesyce skottsbergii var. skottsbergii (EWA PLAINS AKOKO)” and adding in its place the heading “Euphorbia skottsbergii var. skottsbergii (AKOKO)”; and

2. Under the new heading “Euphorbia skottsbergii var. skottsbergii (AKOKO)”, in the introductory text, removing the words “Chamaesyce skottsbergii var. skottsbergii” and adding in their place the words “Euphorbia skottsbergii var. skottsbergii”;

iii. Under Family Rubiaceae:

1. Removing the heading “Psychotria hexandra ssp. oahuensis (KOPIKO)” and adding in its place the heading “Psychotria hexandra var. oahuensis (KOPIKO)”; and

2. Under the new heading “Psychotria hexandra var. oahuensis (KOPIKO)”, in the introductory text, removing the words “Psychotria hexandra ssp. oahuensis” and adding in their place the words “Psychotria hexandra var. oahuensis”; and

iv. Under Family Rutaceae:

1. Removing the heading “Platydesma cornuta var. cornuta (NCN)” and adding in its place the heading “Melicope cornuta var. cornuta (NCN)”;

2. Under the new heading “Melicope cornuta var. cornuta (NCN)”, in the introductory text, removing the words “Platydesma cornuta var. cornuta” and adding in their place the words “Melicope cornuta var. cornuta”;

3. Removing the heading “Platydesma cornuta var. decurrens (NCN)” and adding in its place the heading “Melicope cornuta var. decurrens (NCN)”; and

4. Under the new heading “Melicope cornuta var. decurrens (NCN)”, in the introductory text, removing the words “Platydesma cornuta var. decurrens” and adding in their place the words “Melicope cornuta var. decurrens”;

k. In paragraph (j)(2), by:

i. Under Family Aspleniaceae,

1. Removing the heading “Asplenium dielerectum (ASPLENIUM-LEAVED DIELLIA)” and adding in its place the heading “Asplenium dielerectum (NCN)”;

2. Removing the heading “Diellia falcata (NCN)” and adding in its place the heading “Asplenium dielfalcatum (NCN)”;

3. Under the new heading “Asplenium dielfalcatum (NCN)”, in the introductory text, removing the words “Diellia falcata” and adding in their place the words “Asplenium dielfalcatum”;

ii. Under Family Grammitidaceae, removing the heading “Adenophorus periens (PENDANT KIHI FERN)” and adding in its place the heading “Adenophorus periens (PALAI LAAU)”;

iii. Under Family Lycopodiaceae:

1. Removing the heading “Huperzia nutans (WAWAEIOLE)” and adding in its place the heading “Phlegmariurus nutans (WAWAEIOLE)”; and

2. Under the new heading “Phlegmariurus nutans (WAWAEIOLE)”, in the introductory text, removing the words “Huperzia nutans” and adding in their place the words “Phlegmariurus nutans”;

(l) In paragraph (k), by:

i. In paragraph (k)(26):

1. In the introductory text, removing the words “Hawaii 7—Pleomele hawaiiensis—a” and adding in their place the words “Hawaii 7—Dracaena konaensis—a”; and

2. In paragraph (k)(26)(ii), revising the introductory text;

ii. In paragraph (k)(51):

1. In the introductory text, removing the words “Hawaii 10—Pleomele hawaiiensis—b” and adding in their place the words “Hawaii 10—Dracaena konaensis—b”; and

2. In paragraph (k)(51)(ii), revising the introductory text;

iii. In paragraph (k)(69):

1. In the introductory text, removing the words “Hawaii 18—Pleomele hawaiiensis—c” and adding in their place the words “Hawaii 18—Dracaena konaensis—c”; and

2. In paragraph (k)(69)(ii), revising the introductory text;

iv. In paragraph (k)(74):

1. In the introductory text, removing the words “Hawaii 23—Pleomele hawaiiensis—d” and adding in their place the words “Hawaii 23—Dracaena konaensis—d”; and

2. In paragraph (k)(74)(ii), revising the introductory text; and

v. In paragraph (k)(115), the Table of Protected Species Within Each Critical Habitat Unit for the Island of Hawaii:

1. Removing the entries for Hawaii 7—Pleomele hawaiiensis—a, Hawaii 10—Pleomele hawaiiensis—b, Hawaii 17—Diellia erecta—a, Hawaii 18—Diellia erecta—b, Hawaii 18—Pleomele hawaiiensis—c, and Hawaii 23—Pleomele hawaiiensis—d; and

2. Adding, in order by unit number and then alphabetical order by scientific name within the unit, entries for Hawaii 7—Dracaena konaensis—a, Hawaii 10—Dracaena konaensis—b, Hawaii 17—Asplenium dielerectum—a, Hawaii 18—Asplenium dielerectum—b, Hawaii 18—Dracaena konaensis—c, and Hawaii 23—Dracaena konaensis—d;

(m) In paragraph (l)(1), by:

a. Removing the heading “Family Campanulaceae: Cyanea platyphylla (haha)” and adding in its place the heading “Family Campanulaceae: Cyanea platyphylla (akuaku)”;

b. Removing the heading “Family Liliaceae: Pleomele hawaiiensis (hala pepe)” and adding in its place the heading “Family Liliaceae: Dracaena konaensis (hala pepe)”;

c. Under the new heading “Family Liliaceae: Dracaena konaensis (hala pepe)”, revising the introductory text; and

d. Immediately before the entry for “Family Aspleniaceae: Asplenium peruvianum var. insulare (NCN)”, add the paragraph designation and heading “(2) Fern and allies.”;

(n) In newly designated paragraph (l)(2), by:

a. Removing the heading “Family Aspleniaceae: Diellia erecta (asplenium-leaved diellia)” and adding in its place the heading “Family Aspleniaceae: Asplenium dielerectum (NCN)”; and

b. Removing the heading “Family Grammitidaceae: Adenophorus periens (pendent kihi fern)” and adding in its place the heading “Family Grammitidaceae: Adenophorus periens (palai laau)”.

The revisions and additions read as follows:

§ 17.99 Critical habitat; plants on the Hawaiian Islands.

(a) * * *

(1) * * *

(vi) * * *

(B) Note: The reference to “Kauai 4—Platydesma rostrata—a” on the map is equivalent to “Kauai 4—Melicope rostrata—a”. Map 5a follows:

* * * * *

(xiv) * * *

(B) Note: The reference to “Unit 4—Cyrtandra limahuliensis—a” on the map is equivalent to “Kauai 4—Cyrtandra kealiae ssp. kealiae—a”. Map 11 follows:

* * * * *

(xv) * * *

(B) Note: The reference to “Unit 4—Cyrtandra limahuliensis—b” on the map is equivalent to “Kauai 4—Cyrtandra kealiae ssp. kealiae—b”. Map 12 follows:

* * * * *

(xxxiv) * * *

(B) Note: The reference to “Kauai 7—Platydesma rostrata—b” on the map is equivalent to “Kauai 7—Melicope rostrata—b”. Map 23a follows:

* * * * *

(lvii) * * *

(B) Note: The reference to “Kauai 10—Platydesma rostrata—c” on the map is equivalent to “Kauai 10—Melicope rostrata—c”. Map 35a follows:

* * * * *

(lix) * * *

(B) Note: The reference to “Kauai 10—Platydesma rostrata—d” on the map is equivalent to “Kauai 10—Melicope rostrata—d”. Map 36a follows:

* * * * *

(lx) * * *

(B) Note: The reference to “Kauai 10—Platydesma rostrata—e” on the map is equivalent to “Kauai 10—Melicope rostrata—e”. Map 36b follows:

* * * * *

(lxxii) * * *

(B) Note: The reference to “Unit 10—Cyrtandra limahuliensis—c” on the map is equivalent to “Kauai 10—Cyrtandra kealiae ssp. kealiae—c”. Map 40 follows:

* * * * *

(civ) * * *

(B) Note: The reference to “Unit 10—Huperzia nutans—a” on the map is equivalent to “Kauai 10—Phlegmariurus nutans—a”. Map 49 follows:

* * * * *

(cxxx) * * *

(B) Note: The reference to “Kauai 11—Platydesma rostrata—f” on the map is equivalent to “Kauai 11—Melicope rostrata—f”. Map 64a follows:

* * * * *

(cxxxiii) * * *

(B) Note: The reference to “Kauai 11—Platydesma rostrata—g” on the map is equivalent to “Kauai 11—Melicope rostrata—g”. Map 66a follows:

* * * * *

(cxl) * * *

(B) Note: The reference to “Kauai 11—Platydesma rostrata—h” on the map is equivalent to “Kauai 11—Melicope rostrata—h”. Map 70a follows:

* * * * *

(cxli) * * *

(B) Note: The reference to “Kauai 11—Platydesma rostrata—i” on the map is equivalent to “Kauai 11—Melicope rostrata—i”. Map 70b follows:

* * * * *

(cxlvi) * * *

(B) Note: The reference to “Kauai 11—Platydesma rostrata—j” on the map is equivalent to “Kauai 11—Melicope rostrata—j”. Map 70c follows:

* * * * *

(clxi) * * *

(B) Note: The reference to “Unit 11—Cyrtandra limahuliensis—d” on the map is equivalent to “Kauai 11—Cyrtandra kealiae ssp. kealiae—d”. Map 79 follows:

* * * * *

(clxii) * * *

(B) Note: The reference to “Unit 11—Cyrtandra limahuliensis—e” on the map is equivalent to “Kauai 11—Cyrtandra kealiae ssp. kealiae—e”. Map 80 follows:

* * * * *

(clxviii) * * *

(B) Note: The reference to “Unit 11—Delissea rivularis—a” on the map is equivalent to “Kauai 11—Cyanea rivularis—a”. Map 83 follows:

* * * * *

(clxxiii) * * *

(B) Note: The reference to “Unit 11—Diellia pallida—a” on the map is equivalent to “Kauai 11—Asplenium dielpallidum—a”. Map 87 follows:

* * * * *

(clxxiv) * * *

(B) Note: The reference to “Unit 11—Diellia pallida—b” on the map is equivalent to “Kauai 11—Asplenium dielpallidum—b”. Map 88 follows:

* * * * *

(cciii) * * *

(B) Note: The reference to “Unit 11—Hedyotis cookiana—a” on the map is equivalent to “Kauai 11—Kadua cookiana—a”. Map 109 follows:

* * * * *

(cccli) * * *

(B) Note: The reference to “Kauai 18—Platydesma rostrata—k” on the map is equivalent to “Kauai 18—Melicope rostrata—k”. Map 217a follows:

* * * * *

(ccclxi) * * *

(B) Note: The reference to “Kauai 19—Platydesma rostrata—l” on the map is equivalent to “Kauai 19—Melicope rostrata—l”. Map 217b follows:

* * * * *

(ccclxxi) * * *

(B) Note: The reference to “Kauai 20—Platydesma rostrata—m” on the map is equivalent to “Kauai 20—Melicope rostrata—m”. Map 217c follows:

* * * * *

(ccclxxxvii) * * *

(B) Note: The reference to “Kauai 21—Platydesma rostrata—n” on the map is equivalent to “Kauai 21—Melicope rostrata—n”. Map 217d follows:

* * * * *

(cccxcvi) * * *

(B) Note: The reference to “Kauai 22—Platydesma rostrata—o” on the map is equivalent to “Kauai 22—Melicope rostrata—o”. Map 217e follows:

* * * * *

(cdv) * * *

(B) Note: The reference to “Kauai 23—Platydesma rostrata—p” on the map is equivalent to “Kauai 23—Melicope rostrata—p”. Map 217f follows:

* * * * *

(cdxxiii) * * *

(B) Note: The reference to “Kauai 24—Platydesma rostrata—q” on the map is equivalent to “Kauai 24—Melicope rostrata—q”. Map 217g follows:

* * * * *

(cdxli) * * *

(B) Note: The reference to “Kauai 25—Platydesma rostrata—r” on the map is equivalent to “Kauai 25—Melicope rostrata—r”. Map 217h follows:

* * * * *

(cdlix) * * *

Unit name | Species occupied | Species unoccupied
* * * * * * *
Kauai 4—Cyrtandra kealiae ssp. kealiae—a | Cyrtandra kealiae ssp. kealiae
Kauai 4—Cyrtandra kealiae ssp. kealiae—b | Cyrtandra kealiae ssp. kealiae
* * * * * * *
Kauai 4—Melicope rostrata—a |  | Melicope rostrata.
* * * * * * *
Kauai 7—Melicope rostrata—b |  | Melicope rostrata.
* * * * * * *
Kauai 10—Cyrtandra kealiae ssp. kealiae—c | Cyrtandra kealiae ssp. kealiae
* * * * * * *
Kauai 10—Melicope rostrata—c | Melicope rostrata | Melicope rostrata.
Kauai 10—Melicope rostrata—d | Melicope rostrata | Melicope rostrata.
Kauai 10—Melicope rostrata—e | Melicope rostrata | Melicope rostrata.
* * * * * * *
Kauai 10—Phlegmariurus nutans—a |  | Phlegmariurus nutans.
* * * * * * *
Kauai 11—Asplenium dielpallidum—a | Asplenium dielpallidum
Kauai 11—Asplenium dielpallidum—b | Asplenium dielpallidum
* * * * * * *
Kauai 11—Cyanea rivularis—a | Cyanea rivularis
* * * * * * *
Kauai 11—Cyrtandra kealiae ssp. kealiae—d | Cyrtandra kealiae ssp. kealiae
Kauai 11—Cyrtandra kealiae ssp. kealiae—e | Cyrtandra kealiae ssp. kealiae
* * * * * * *
Kauai 11—Kadua cookiana—a | Kadua cookiana
* * * * * * *
Kauai 11—Melicope rostrata—f | Melicope rostrata | Melicope rostrata.
Kauai 11—Melicope rostrata—g | Melicope rostrata | Melicope rostrata.
Kauai 11—Melicope rostrata—h | Melicope rostrata | Melicope rostrata.
Kauai 11—Melicope rostrata—i |  | Melicope rostrata
Kauai 11—Melicope rostrata—j | Melicope rostrata | Melicope rostrata.
* * * * * * *
Kauai 18—Melicope rostrata—k | Melicope rostrata | Melicope rostrata.
* * * * * * *
Kauai 19—Melicope rostrata—l |  | Melicope rostrata.
* * * * * * *
Kauai 20—Melicope rostrata—m |  | Melicope rostrata.
* * * * * * *
Kauai 21—Melicope rostrata—n |  | Melicope rostrata.
* * * * * * *
Kauai 22—Melicope rostrata—o |  | Melicope rostrata.
* * * * * * *
Kauai 23—Melicope rostrata—p | Melicope rostrata | Melicope rostrata.
* * * * * * *
Kauai 24—Melicope rostrata—q | Melicope rostrata | Melicope rostrata.
* * * * * * *
Kauai 25—Melicope rostrata—r | Melicope rostrata | Melicope rostrata.
* * * * * * *

(b) * * *

(1) * * *

* * * * *

Family Gesneriaceae: Cyrtandra Kealiae ssp. Kealiae (Haiwale)

Kauai 4—Cyrtandra kealiae ssp. kealiae—a, Kauai 4—Cyrtandra kealiae ssp. kealiae—b, Kauai 10—Cyrtandra kealiae ssp. kealiae—c, Kauai 11—Cyrtandra kealiae ssp. kealiae—d, and Kauai 11—Cyrtandra kealiae ssp. kealiae—e, identified in the legal descriptions in paragraph (a)(1) of this section, constitute critical habitat for Cyrtandra kealiae ssp. kealiae on Kauai. Within these units, the currently known primary constituent elements of critical habitat include, but are not limited to, the habitat components provided by:

* * * * *

Family Rutaceae: Melicope Rostrata (Pilo Kea Lau Lii)

Kauai 4—Melicope rostrata—a, Kauai 7—Melicope rostrata—b, Kauai 10—Melicope rostrata—c, Kauai 10—Melicope rostrata—d, Kauai 10—Melicope rostrata—e, Kauai 11—Melicope rostrata—f, Kauai 11—Melicope rostrata—g, Kauai 11—Melicope rostrata—h, Kauai 11—Melicope rostrata—i, Kauai 11—Melicope rostrata—j, Kauai 18—Melicope rostrata—k, Kauai 19—Melicope rostrata—l, Kauai 20—Melicope rostrata—m, Kauai 21—Melicope rostrata—n, Kauai 22—Melicope rostrata—o, Kauai 23—Melicope rostrata—p, Kauai 24—Melicope rostrata—q, and Kauai 25—Melicope rostrata—r, identified in the legal descriptions in paragraph (a)(1) of this section, constitute critical habitat for Platydesma rostrata on Kauai.

(i) In units Kauai 7—Melicope rostrata—b and Kauai 11—Melicope rostrata—g, the primary constituent elements of critical habitat are:

* * * * *

(ii) In units Kauai 10—Melicope rostrata—d, Kauai 11—Melicope rostrata—h, and Kauai 20—Melicope rostrata—m, the primary constituent elements of critical habitat are:

* * * * *

(iii) In units Kauai 11—Melicope rostrata—j, Kauai 21—Melicope rostrata—n, and Kauai 22—Melicope rostrata—o, the primary constituent elements of critical habitat are:

* * * * *

(iv) In units Kauai 10—Melicope rostrata—c, Kauai 11—Melicope rostrata—f, Kauai 23—Melicope rostrata—p, Kauai 24—Melicope rostrata—q, and Kauai 25—Melicope rostrata—r, the primary constituent elements of critical habitat are:

* * * * *

(v) In units Kauai 4—Melicope rostrata—a, Kauai 10—Melicope rostrata—e, Kauai 11—Melicope rostrata—i, Kauai 18—Melicope rostrata—k, and Kauai 19—Melicope rostrata—l, the primary constituent elements of critical habitat are:

* * * * *

(2) * * *

* * * * *

Family Aspleniaceae: Asplenium Dielpallidum (No Common Name)

Kauai 11—Asplenium dielpallidum—a and Kauai 11—Asplenium dielpallidum—b, identified in the legal descriptions in paragraph (a)(1) of this section, constitute critical habitat for Asplenium dielpallidum on Kauai. Within these units, the currently known primary constituent elements of critical habitat include, but are not limited to, the habitat components provided by:

* * * * *

(e) * * *

(1) * * *

(xvii) Maui—Montane Wet—Unit 1 (2,110 ac, 854 ha), Maui—Montane Wet—Unit 2 (14,583 ac, 5,901 ha), Maui—Montane Wet—Unit 3 (2,228 ac, 902 ha), Maui—Montane Wet—Unit 4 (1,833 ac, 742 ha), and Maui—Montane Wet—Unit 5 (387 ac, 156 ha).

* * * * *

(xxix) * * *

Unit name | Species occupied | Species unoccupied
* * * * * * *
Maui—Lowland Mesic—Unit 1 |  | Ctenitis squamigera.
| Cyanea asplenifolia
| Cyanea copelandii ssp. haleakalaensis
| Phlegmariurus mannii
|  | Solanum incompletum.
* * * * * * *
Maui—Lowland Wet—Unit 1 | Bidens campylotheca ssp. waihoiensis
|  | Clermontia oblongifolia ssp. mauiensis.
|  | Clermontia peleana.
| Clermontia samuelii
| Cyanea asplenifolia
| Cyanea copelandii ssp. haleakalaensis
| Cyanea duvalliorum
| Cyanea hamatiflora ssp. hamatiflora
| Cyanea kunthiana
| Cyanea maritae
| Cyanea mceldowneyi
| Melicope balloui
| Melicope ovalis
|  | Mucuna persericea.
| Phlegmariurus mannii
|  | Phyllostegia haliakalae.
|  | Wikstroemia villosa.
Maui—Lowland Wet—Unit 2 |  | Alectryon macrococcus.
|  | Asplenium dielerectum.
|  | Bidens conjuncta.
|  | Bidens micrantha ssp. kalealaha.
|  | Clermontia oblongifolia ssp. mauiensis.
|  | Ctenitis squamigera.
|  | Cyanea asplenifolia.
|  | Cyanea glabra.
|  | Cyanea kunthiana.
|  | Cyanea lobata.
|  | Cyanea magnicalyx.
|  | Cyrtandra filipes.
|  | Cyrtandra munroi.
|  | Diplazium molokaiense.
|  | Hesperomannia arborescens.
|  | Hesperomannia arbuscula.
|  | Isodendrion pyrifolium.
|  | Kadua laxiflora.
|  | Peucedanum sandwicense.
|  | Phlegmariurus mannii.
|  | Phyllostegia bracteata.
|  | Pteris lidgatei.
|  | Remya mauiensis.
| Santalum haleakalae var. lanaiense
|  | Wikstroemia villosa.
Maui—Lowland Wet—Unit 3 |  | Alectryon macrococcus.
|  | Asplenium dielerectum.
| Bidens conjuncta
|  | Bidens micrantha ssp. kalealaha.
|  | Clermontia oblongifolia ssp. mauiensis.
|  | Ctenitis squamigera.
| Cyanea asplenifolia
|  | Cyanea glabra.
|  | Cyanea kunthiana.
|  | Cyanea lobata.
|  | Cyanea magnicalyx.
|  | Cyrtandra filipes.
|  | Cyrtandra munroi.
|  | Diplazium molokaiense.
|  | Hesperomannia arborescens.
|  | Hesperomannia arbuscula.
|  | Isodendrion pyrifolium.
|  | Kadua laxiflora.
|  | Peucedanum sandwicense.
|  | Phlegmariurus mannii.
|  | Phyllostegia bracteata.
| Pteris lidgatei
|  | Remya mauiensis.
|  | Santalum haleakalae var. lanaiense.
|  | Wikstroemia villosa.
Maui—Lowland Wet—Unit 4 |  | Alectryon macrococcus.
|  | Asplenium dielerectum.
|  | Bidens conjuncta.
|  | Bidens micrantha ssp. kalealaha.
|  | Clermontia oblongifolia ssp. mauiensis.
|  | Ctenitis squamigera.
| Cyanea asplenifolia
|  | Cyanea glabra.
|  | Cyanea kunthiana.
|  | Cyanea lobata.
|  | Cyanea magnicalyx.
|  | Cyrtandra filipes.
|  | Cyrtandra munroi.
|  | Diplazium molokaiense.
|  | Hesperomannia arborescens.
|  | Hesperomannia arbuscula.
|  | Isodendrion pyrifolium.
|  | Kadua laxiflora.
|  | Peucedanum sandwicense.
|  | Phlegmariurus mannii.
|  | Phyllostegia bracteata.
|  | Pteris lidgatei.
|  | Remya mauiensis.
|  | Santalum haleakalae var. lanaiense.
|  | Wikstroemia villosa.
Maui—Lowland Wet—Unit 5 |  | Alectryon macrococcus.
|  | Asplenium dielerectum.
|  | Bidens conjuncta.
|  | Bidens micrantha ssp. kalealaha.
|  | Clermontia oblongifolia ssp. mauiensis.
|  | Ctenitis squamigera.
|  | Cyanea asplenifolia.
|  | Cyanea glabra.
|  | Cyanea kunthiana.
|  | Cyanea lobata.
|  | Cyanea magnicalyx.
|  | Cyrtandra filipes.
|  | Cyrtandra munroi.
|  | Diplazium molokaiense.
|  | Hesperomannia arborescens.
|  | Hesperomannia arbuscula.
|  | Isodendrion pyrifolium.
|  | Kadua laxiflora.
|  | Peucedanum sandwicense.
|  | Phlegmariurus mannii.
|  | Phyllostegia bracteata.
|  | Pteris lidgatei.
|  | Remya mauiensis.
|  | Santalum haleakalae var. lanaiense.
|  | Wikstroemia villosa.
Maui—Lowland Wet—Unit 6 |  | Alectryon macrococcus.
|  | Asplenium dielerectum.
|  | Bidens conjuncta.
|  | Bidens micrantha ssp. kalealaha.
|  | Clermontia oblongifolia ssp. mauiensis.
|  | Ctenitis squamigera.
|  | Cyanea asplenifolia.
|  | Cyanea glabra.
|  | Cyanea kunthiana.
|  | Cyanea lobata.
|  | Cyanea magnicalyx.
|  | Cyrtandra filipes.
|  | Cyrtandra munroi.
|  | Diplazium molokaiense.
|  | Hesperomannia arborescens.
|  | Hesperomannia arbuscula.
|  | Isodendrion pyrifolium.
|  | Kadua laxiflora.
|  | Peucedanum sandwicense.
|  | Phlegmariurus mannii.
|  | Phyllostegia bracteata.
|  | Pteris lidgatei.
|  | Remya mauiensis.
| Santalum haleakalae var. lanaiense
|  | Wikstroemia villosa.
Maui—Lowland Wet—Unit 7 | Alectryon macrococcus
|  | Asplenium dielerectum.
|  | Bidens conjuncta.
|  | Bidens micrantha ssp. kalealaha.
|  | Clermontia oblongifolia ssp. mauiensis.
|  | Ctenitis squamigera.
|  | Cyanea asplenifolia.
|  | Cyanea glabra.
|  | Cyanea kunthiana.
|  | Cyanea lobata.
|  | Cyanea magnicalyx.
|  | Cyrtandra filipes.
|  | Cyrtandra munroi.
|  | Diplazium molokaiense.
|  | Hesperomannia arborescens.
|  | Hesperomannia arbuscula.
|  | Isodendrion pyrifolium.
|  | Kadua laxiflora.
|  | Peucedanum sandwicense.
|  | Phlegmariurus mannii.
|  | Phyllostegia bracteata.
|  | Pteris lidgatei.
|  | Remya mauiensis.
|  | Santalum haleakalae var. lanaiense.
|  | Wikstroemia villosa.
Maui—Lowland Wet—Unit 8 |  | Alectryon macrococcus.
|  | Asplenium dielerectum.
|  | Bidens conjuncta.
|  | Bidens micrantha ssp. kalealaha.
|  | Clermontia oblongifolia ssp. mauiensis.
|  | Ctenitis squamigera.
|  | Cyanea asplenifolia.
|  | Cyanea glabra.
|  | Cyanea kunthiana.
|  | Cyanea lobata.
|  | Cyanea magnicalyx.
|  | Cyrtandra filipes.
|  | Cyrtandra munroi.
|  | Diplazium molokaiense.
|  | Hesperomannia arborescens.
|  | Hesperomannia arbuscula.
|  | Isodendrion pyrifolium.
|  | Kadua laxiflora.
|  | Peucedanum sandwicense.
|  | Phlegmariurus mannii.
|  | Phyllostegia bracteata.
|  | Pteris lidgatei.
|  | Remya mauiensis.
|  | Santalum haleakalae var. lanaiense.
|  | Wikstroemia villosa.
Maui—Montane Wet—Unit 1 |  | Adenophorus periens.
|  | Asplenium peruvianum var. insulare.
|  | Bidens campylotheca ssp. pentamera.
|  | Bidens campylotheca ssp. waihoiensis.
|  | Clermontia oblongifolia ssp. mauiensis.
|  | Clermontia samuelii.
|  | Cyanea copelandii ssp. haleakalaensis.
| Cyanea duvalliorum
|  | Cyanea glabra.
|  | Cyanea hamatiflora ssp. hamatiflora.
|  | Cyanea horrida.
|  | Cyanea kunthiana.
| Cyanea maritae
| Cyanea mceldowneyi
|  | Cyrtandra ferripilosa.
|  | Diplazium molokaiense.
|  | Geranium hanaense.
|  | Geranium multiflorum.
| Melicope balloui
|  | Melicope ovalis.
|  | Peperomia subpetiolata.
| Phlegmariurus mannii
|  | Phyllostegia bracteata.
|  | Phyllostegia haliakalae.
|  | Phyllostegia mannii.
| Phyllostegia pilosa
|  | Platanthera holochila.
|  | Schiedea jacobii.
|  | Wikstroemia villosa.
Maui—Montane Wet—Unit 2 |  | Adenophorus periens.
|  | Asplenium peruvianum var. insulare.
| Bidens campylotheca ssp. pentamera
|  | Bidens campylotheca ssp. waihoiensis.
|  | Clermontia oblongifolia ssp. mauiensis.
| Clermontia samuelii
| Cyanea copelandii ssp. haleakalaensis
| Cyanea duvalliorum
|  | Cyanea glabra.
| Cyanea hamatiflora ssp. hamatiflora
| Cyanea horrida
| Cyanea kunthiana
|  | Cyanea maritae.
| Cyanea mceldowneyi
|  | Cyrtandra ferripilosa.
|  | Diplazium molokaiense.
| Geranium hanaense
| Geranium multiflorum
|  | Melicope balloui.
|  | Melicope ovalis.
|  | Peperomia subpetiolata.
|  | Phlegmariurus mannii.
|  | Phyllostegia bracteata.
|  | Phyllostegia haliakalae.
|  | Phyllostegia mannii.
|  | Phyllostegia pilosa.
|  | Platanthera holochila.
|  | Schiedea jacobii.
| Wikstroemia villosa
Maui—Montane Wet—Unit 3 |  | Adenophorus periens.
|  | Asplenium peruvianum var. insulare.
| Bidens campylotheca ssp. pentamera
| Bidens campylotheca ssp. waihoiensis
|  | Clermontia oblongifolia ssp. mauiensis.
|  | Clermontia samuelii.
| Cyanea copelandii ssp. haleakalaensis
|  | Cyanea duvalliorum.
|  | Cyanea glabra.
| Cyanea hamatiflora ssp. hamatiflora
|  | Cyanea horrida.
|  | Cyanea kunthiana.
| Cyanea maritae
|  | Cyanea mceldowneyi.
|  | Cyrtandra ferripilosa.
|  | Diplazium molokaiense.
|  | Geranium hanaense.
|  | Geranium multiflorum.
|  | Melicope balloui.
| Melicope ovalis
|  | Peperomia subpetiolata.
|  | Phlegmariurus mannii.
|  | Phyllostegia bracteata.
|  | Phyllostegia haliakalae.
|  | Phyllostegia mannii.
|  | Phyllostegia pilosa.
|  | Platanthera holochila.
|  | Schiedea jacobii.
|  | Wikstroemia villosa.
Maui—Montane Wet—Unit 4 |  | Adenophorus periens.
|  | Asplenium peruvianum var. insulare.
|  | Bidens campylotheca ssp. pentamera.
|  | Bidens campylotheca ssp. waihoiensis.
|  | Clermontia oblongifolia ssp. mauiensis.
| Clermontia samuelii
| Cyanea copelandii ssp. haleakalaensis
|  | Cyanea duvalliorum.
|  | Cyanea glabra.
| Cyanea hamatiflora ssp. hamatiflora
| Cyanea horrida
| Cyanea kunthiana
| Cyanea maritae
|  | Cyanea mceldowneyi.
| Cyrtandra ferripilosa
|  | Diplazium molokaiense.
|  | Geranium hanaense.
|  | Geranium multiflorum.
|  | Melicope balloui.
|  | Melicope ovalis.
|  | Peperomia subpetiolata.
| Phlegmariurus mannii
|  | Phyllostegia bracteata.
|  | Phyllostegia haliakalae.
|  | Phyllostegia mannii.
|  | Phyllostegia pilosa.
|  | Platanthera holochila.
|  | Schiedea jacobii.
|  | Wikstroemia villosa.
Maui—Montane Wet—Unit 5 |  | Adenophorus periens.
|  | Asplenium peruvianum var. insulare.
| Bidens campylotheca ssp. pentamera
|  | Bidens campylotheca ssp. waihoiensis.
|  | Clermontia oblongifolia ssp. mauiensis.
|  | Clermontia samuelii.
|  | Cyanea copelandii ssp. haleakalaensis.
|  | Cyanea duvalliorum.
|  | Cyanea glabra.
|  | Cyanea hamatiflora ssp. hamatiflora.
|  | Cyanea horrida.
|  | Cyanea kunthiana.
|  | Cyanea maritae.
|  | Cyanea mceldowneyi.
|  | Cyrtandra ferripilosa.
|  | Diplazium molokaiense.
|  | Geranium hanaense.
|  | Geranium multiflorum.
|  | Melicope balloui.
|  | Melicope ovalis.
|  | Peperomia subpetiolata.
|  | Phlegmariurus mannii.
|  | Phyllostegia bracteata.
|  | Phyllostegia haliakalae.
|  | Phyllostegia mannii.
|  | Phyllostegia pilosa.
|  | Platanthera holochila.
|  | Schiedea jacobii.
|  | Wikstroemia villosa.
Maui—Montane Wet—Unit 6 |  | Acaena exigua.
| Bidens conjuncta
| Calamagrostis hillebrandii
| Cyanea kunthiana
|  | Cyrtandra oxybapha.
| Geranium hillebrandii
| Myrsine vaccinioides
|  | Phlegmariurus mannii.
|  | Phyllostegia bracteata.
|  | Platanthera holochila.
| Sanicula purpurea
Maui—Montane Wet—Unit 7 |  | Acaena exigua.
|  | Bidens conjuncta.
|  | Calamagrostis hillebrandii.
|  | Cyanea kunthiana.
| Cyrtandra oxybapha
|  | Geranium hillebrandii.
|  | Myrsine vaccinioides.
|  | Phlegmariurus mannii.
|  | Phyllostegia bracteata.
| Platanthera holochila
|  | Sanicula purpurea.
Maui—Montane Mesic—Unit 1 |  | Alectryon macrococcus.
| Argyroxiphium sandwicense ssp. macrocephalum
| Asplenium dielerectum
| Asplenium peruvianum var. insulare
|  | Bidens campylotheca ssp. pentamera.
|  | Bidens micrantha ssp. kalealaha.
| Clermontia lindseyana
|  | Cyanea glabra.
|  | Cyanea hamatiflora ssp. hamatiflora.
| Cyanea horrida
|  | Cyanea kunthiana.
|  | Cyanea mceldowneyi.
| Cyanea obtusa
| Cyrtandra ferripilosa
| Cyrtandra oxybapha
| Diplazium molokaiense
| Geranium arboreum
| Geranium multiflorum
| Melicope adscendens
| Neraudia sericea
| Phlegmariurus mannii
|  | Phyllostegia bracteata.
|  | Phyllostegia mannii.
|  | Santalum haleakalae var. lanaiense.
|  | Wikstroemia villosa.
|  | Zanthoxylum hawaiiense.
Maui—Montane Mesic—Unit 2 | Ctenitis squamigera
| Cyanea magnicalyx
| Diplazium molokaiense
|  | Geranium hillebrandii
| Lysimachia lydgatei
|  | Phlegmariurus mannii.
| Remya mauiensis
| Santalum haleakalae var. lanaiense
|  | Stenogyne kauaulaensis.
|  | Zanthoxylum hawaiiense.
Maui—Montane Mesic—Unit 3 |  | Ctenitis squamigera.
|  | Cyanea magnicalyx.
|  | Diplazium molokaiense.
| Geranium hillebrandii
|  | Lysimachia lydgatei.
|  | Phlegmariurus mannii.
|  | Remya mauiensis.
|  | Santalum haleakalae var. lanaiense.
|  | Stenogyne kauaulaensis.
|  | Zanthoxylum hawaiiense.
Maui—Montane Mesic—Unit 4 |  | Ctenitis squamigera.
|  | Cyanea magnicalyx.
|  | Diplazium molokaiense.
|  | Geranium hillebrandii.
|  | Lysimachia lydgatei.
|  | Phlegmariurus mannii.
|  | Remya mauiensis.
|  | Santalum haleakalae var. lanaiense.
|  | Stenogyne kauaulaensis.
|  | Zanthoxylum hawaiiense.
Maui—Montane Mesic—Unit 5 |  | Ctenitis squamigera.
|  | Cyanea magnicalyx.
|  | Diplazium molokaiense.
|  | Geranium hillebrandii.
|  | Lysimachia lydgatei.
|  | Phlegmariurus mannii.
| Remya mauiensis
| Santalum haleakalae var. lanaiense
|  | Stenogyne kauaulaensis.
|  | Zanthoxylum hawaiiense.
* * * * * * *

* * * * *

(i) * * *

(35) * * *

Unit name | Species occupied | Species unoccupied
* * * * * * *
Oahu—Lowland Dry—Unit 1 |  | Achyranthes splendens var. rotundata.
| Bidens amplectens | Bidens amplectens. Bonamia menziesii. Chamaesyce celastroides var. kaenana.
|  | Dracaena forbesii. Euphorbia haeleeleana. Gouania meyenii. Gouania vitifolia.
| Hibiscus brackenridgei | Hibiscus brackenridgei. Isodendrion pyrifolium. Melanthera tenuifolia. Neraudia angulata.
| Nototrichium humile | Nototrichium humile. Schiedea hookeri.
| Schiedea kealiae | Schiedea kealiae. Spermolepis hawaiiensis.
Oahu—Lowland Dry—Unit 2 |  | Achyranthes splendens var. rotundata. Bidens amplectens.
| Bonamia menziesii | Bonamia menziesii. Chamaesyce celastroides var. kaenana.
| Dracaena forbesii | Dracaena forbesii. Euphorbia haeleeleana. Gouania meyenii.
|  | Gouania vitifolia. Hibiscus brackenridgei. Isodendrion pyrifolium.
| Melanthera tenuifolia | Melanthera tenuifolia. Neraudia angulata.
| Nototrichium humile | Nototrichium humile. Schiedea hookeri. Schiedea kealiae. Spermolepis hawaiiensis.
* * * * * * *
Oahu—Lowland Dry—Unit 8 |  | Achyranthes splendens var. rotundata. Bidens amplectens. Bonamia menziesii.
|  | Chamaesyce celastroides var. kaenana. Euphorbia haeleeleana. Euphorbia skottsbergii var. skottsbergii. Gouania meyenii.
|  | Gouania vitifolia. Hibiscus brackenridgei. Isodendrion pyrifolium. Melanthera tenuifolia.
|  | Neraudia angulata. Nototrichium humile. Schiedea hookeri. Schiedea kealiae. Spermolepis hawaiiensis.
Oahu—Lowland Dry—Unit 9 | Achyranthes splendens var. rotundata | Achyranthes splendens var. rotundata. Bidens amplectens. Bonamia menziesii.
|  | Chamaesyce celastroides var. kaenana. Euphorbia haeleeleana. Euphorbia skottsbergii var. skottsbergii. Gouania meyenii.
|  | Gouania vitifolia. Hibiscus brackenridgei. Isodendrion pyrifolium. Melanthera tenuifolia.
|  | Neraudia angulata. Nototrichium humile. Schiedea hookeri. Schiedea kealiae. Spermolepis hawaiiensis.
Oahu—Lowland Dry—Unit 10 |  | Achyranthes splendens var. rotundata. Bidens amplectens. Bonamia menziesii.
|  | Chamaesyce celastroides var. kaenana. Euphorbia haeleeleana.
| Euphorbia skottsbergii var. skottsbergii | Euphorbia skottsbergii var. skottsbergii. Gouania meyenii. Gouania vitifolia.
|  | Hibiscus brackenridgei. Isodendrion pyrifolium. Melanthera tenuifolia. Neraudia angulata.
|  | Nototrichium humile. Schiedea hookeri. Schiedea kealiae. Spermolepis hawaiiensis.
Oahu—Lowland Dry—Unit 11 |  | Achyranthes splendens var. rotundata. Bidens amplectens. Bonamia menziesii.
|  | Chamaesyce celastroides var. kaenana. Euphorbia haeleeleana.
| Euphorbia skottsbergii var. skottsbergii | Euphorbia skottsbergii var. skottsbergii. Gouania meyenii. Gouania vitifolia.
|  | Hibiscus brackenridgei. Isodendrion pyrifolium. Melanthera tenuifolia. Neraudia angulata.
|  | Nototrichium humile. Schiedea hookeri. Schiedea kealiae. Spermolepis hawaiiensis.
Oahu—Lowland Mesic—Unit 1 | Abutilon sandwicense | Abutilon sandwicense.
| Alectryon macrococcus | Alectryon macrococcus.
| Asplenium dielfalcatum | Asplenium dielfalcatum.
| Bonamia menziesii | Bonamia menziesii.
| Cenchrus agrimonioides | Cenchrus agrimonioides. Chamaesyce celastroides var. kaenana.
| Chamaesyce herbstii | Chamaesyce herbstii.
| Colubrina oppositifolia | Colubrina oppositifolia.
| Ctenitis squamigera | Ctenitis squamigera.
| Cyanea acuminata | Cyanea acuminata.
| Cyanea calycina | Cyanea calycina.
| Cyanea grimesiana ssp. grimesiana | Cyanea grimesiana ssp. grimesiana.
| Cyanea grimesiana ssp. obatae | Cyanea grimesiana ssp. obatae.
| Cyanea longiflora | Cyanea longiflora. Cyanea pinnatifida.
| Cyanea superba | Cyanea superba. Cyperus pennatiformis.
| Cyrtandra dentata | Cyrtandra dentata.
| Delissea subcordata | Delissea subcordata. Diellia unisora. Diplazium molokaiense.
| Dracaena forbesii | Dracaena forbesii.
| Dubautia herbstobatae | Dubautia herbstobatae.
| Eragrostis fosbergii | Eragrostis fosbergii. Eugenia koolauensis.
| Euphorbia haeleeleana | Euphorbia haeleeleana.
| Flueggea neowawraea | Flueggea neowawraea. Gardenia mannii. Gouania meyenii. Gouania vitifolia.
| Hesperomannia arborescens | Hesperomannia arborescens.
| Hesperomannia arbuscula | Hesperomannia arbuscula.
| Hibiscus brackenridgei | Hibiscus brackenridgei.
| Isodendrion laurifolium | Isodendrion laurifolium.
| Isodendrion longifolium | Isodendrion longifolium. Kadua coriacea.
| Kadua degeneri | Kadua degeneri. Kadua parvula. Labordia cyrtandrae.
| Lobelia niihauensis | Lobelia niihauensis.
| Melanthera tenuifolia | Melanthera tenuifolia.
| Melicope cornuta var. decurrens | Melicope cornuta var. decurrens.
| Melicope makahae | Melicope makahae.
| Melicope pallida | Melicope pallida. Melicope saint-johnii.
| Neraudia angulata | Neraudia angulata.
| Nototrichium humile | Nototrichium humile. Phyllostegia hirsuta.
| Phyllostegia kaalaensis | Phyllostegia kaalaensis. Phyllostegia mollis. Phyllostegia parviflora. Plantago princeps.
| Pteralyxia macrocarpa | Pteralyxia macrocarpa. Sanicula mariversa.
| Schiedea hookeri | Schiedea hookeri.
| Schiedea kaalae | Schiedea kaalae.
| Schiedea nuttallii | Schiedea nuttallii.
| Schiedea obovata | Schiedea obovata. Silene perlmanii. Solanum sandwicense.
|  | Stenogyne kanehoana. Tetramolopium lepidotum ssp. lepidotum. Urera kaalae.
| Viola chamissoniana ssp. chamissoniana | Viola chamissoniana ssp. chamissoniana.
Oahu—Lowland Mesic—Unit 2 | Abutilon sandwicense | Abutilon sandwicense.
| Alectryon macrococcus | Alectryon macrococcus.
| Asplenium dielfalcatum | Asplenium dielfalcatum. Bonamia menziesii.
| Cenchrus agrimonioides | Cenchrus agrimonioides. Chamaesyce celastroides var. kaenana.
| Chamaesyce herbstii | Chamaesyce herbstii. Colubrina oppositifolia. Ctenitis squamigera. Cyanea acuminata.
| Cyanea calycina | Cyanea calycina. Cyanea grimesiana ssp. grimesiana.
| Cyanea grimesiana ssp. obatae | Cyanea grimesiana ssp. obatae. Cyanea longiflora. Cyanea pinnatifida.
|  | Cyanea superba. Cyperus pennatiformis. Cyrtandra dentata.
| Delissea subcordata | Delissea subcordata. Diellia unisora. Diplazium molokaiense.
| Dracaena forbesii | Dracaena forbesii. Dubautia herbstobatae. Eragrostis fosbergii.
|  | Eugenia koolauensis. Euphorbia haeleeleana. Flueggea neowawraea.
| Gardenia mannii | Gardenia mannii. Gouania meyenii. Gouania vitifolia.
|  | Hesperomannia arborescens. Hesperomannia arbuscula. Hibiscus brackenridgei. Isodendrion laurifolium.
|  | Isodendrion longifolium. Kadua coriacea. Kadua degeneri. Kadua parvula.
|  | Labordia cyrtandrae. Lobelia niihauensis. Melanthera tenuifolia.
| Melicope cornuta var. decurrens | Melicope cornuta var. decurrens. Melicope makahae. Melicope pallida.
|  | Melicope saint-johnii. Neraudia angulata. Nototrichium humile.
| Phyllostegia hirsuta | Phyllostegia hirsuta.
| Phyllostegia kaalaensis | Phyllostegia kaalaensis.
| Phyllostegia mollis | Phyllostegia mollis. Phyllostegia parviflora. Plantago princeps.
| Pteralyxia macrocarpa | Pteralyxia macrocarpa. Sanicula mariversa.
| Schiedea hookeri | Schiedea hookeri.
| Schiedea kaalae | Schiedea kaalae. Schiedea nuttallii. Schiedea obovata. Silene perlmanii.
| Solanum sandwicense | Solanum sandwicense.
| Stenogyne kanehoana | Stenogyne kanehoana. Tetramolopium lepidotum ssp. lepidotum.
| Urera kaalae | Urera kaalae. Viola chamissoniana ssp. chamissoniana.
Oahu—Lowland Mesic—Unit 3 |  | Abutilon sandwicense.
| Alectryon macrococcus | Alectryon macrococcus.
| Asplenium dielfalcatum | Asplenium dielfalcatum. Bonamia menziesii.
| Cenchrus agrimonioides | Cenchrus agrimonioides. Chamaesyce celastroides var. kaenana. Chamaesyce herbstii.
|  | Colubrina oppositifolia. Ctenitis squamigera. Cyanea acuminata. Cyanea calycina.
|  | Cyanea grimesiana ssp. grimesiana. Cyanea grimesiana ssp. obatae. Cyanea longiflora. Cyanea pinnatifida.
|  | Cyanea superba. Cyperus pennatiformis. Cyrtandra dentata.
| Delissea subcordata | Delissea subcordata.
| Diellia unisora | Diellia unisora. Diplazium molokaiense.
| Dracaena forbesii | Dracaena forbesii. Dubautia herbstobatae. Eragrostis fosbergii.
|  | Eugenia koolauensis. Euphorbia haeleeleana. Flueggea neowawraea. Gardenia mannii.
|  | Gouania meyenii. Gouania vitifolia. Hesperomannia arborescens.
| Hesperomannia arbuscula | Hesperomannia arbuscula. Hibiscus brackenridgei. Isodendrion laurifolium.
|  | Isodendrion longifolium. Kadua coriacea. Kadua degeneri. Kadua parvula.
|  | Labordia cyrtandrae. Lobelia niihauensis. Melanthera tenuifolia.
|  | Melicope cornuta var. decurrens. Melicope makahae. Melicope pallida.
| Melicope saint-johnii | Melicope saint-johnii. Neraudia angulata. Nototrichium humile. Phyllostegia hirsuta. Phyllostegia kaalaensis.
| Phyllostegia mollis | Phyllostegia mollis.
| Phyllostegia parviflora | Phyllostegia parviflora.
| Plantago princeps | Plantago princeps.
| Pteralyxia macrocarpa | Pteralyxia macrocarpa. Sanicula mariversa. Schiedea hookeri.
| Schiedea kaalae | Schiedea kaalae. Schiedea nuttallii. Schiedea obovata.
| Silene perlmanii | Silene perlmanii. Solanum sandwicense. Stenogyne kanehoana. Tetramolopium lepidotum ssp. lepidotum.
| Urera kaalae | Urera kaalae.
|  | Viola chamissoniana ssp. chamissoniana.
Oahu—Lowland Mesic—Unit 4 |  | Alectryon macrococcus. Asplenium dielerectum. Asplenium dielfalcatum.
|  | Bonamia menziesii. Chamaesyce celastroides var. kaenana. Ctenitis squamigera. Cyanea acuminata.
|  | Cyanea calycina. Cyanea crispa. Cyanea grimesiana ssp. grimesiana. Cyanea lanceolata.
|  | Cyanea longiflora. Cyanea truncata. Cyrtandra dentata. Cyrtandra polyantha.
|  | Delissea subcordata. Dracaena forbesii. Eugenia koolauensis. Gardenia mannii.
|  | Hesperomannia arborescens. Isodendrion laurifolium. Isodendrion longifolium. Kadua coriacea.
|  | Labordia cyrtandrae. Lobelia monostachya. Melicope lydgatei. Melicope saint-johnii.
|  | Phyllostegia hirsuta. Phyllostegia mollis. Phyllostegia parviflora. Plantago princeps.
|  | Pteralyxia macrocarpa. Schiedea kaalae. Schiedea nuttallii.
|  | Solanum sandwicense. Tetraplasandra gymnocarpa. Tetraplasandra lydgatei.
Oahu—Lowland Mesic—Unit 5 |  | Alectryon macrococcus. Asplenium dielerectum. Asplenium dielfalcatum.
|  | Bonamia menziesii. Chamaesyce celastroides var. kaenana. Ctenitis squamigera. Cyanea acuminata.
|  | Cyanea calycina. Cyanea crispa. Cyanea grimesiana ssp. grimesiana. Cyanea lanceolata.
|  | Cyanea longiflora. Cyanea truncata. Cyrtandra dentata. Cyrtandra polyantha.
|  | Delissea subcordata. Dracaena forbesii. Eugenia koolauensis. Gardenia mannii.
|  | Hesperomannia arborescens. Isodendrion laurifolium. Isodendrion longifolium. Kadua coriacea.
|  | Labordia cyrtandrae. Lobelia monostachya. Melicope lydgatei. Melicope saint-johnii.
|  | Phyllostegia hirsuta. Phyllostegia mollis. Phyllostegia parviflora. Plantago princeps.
|  | Pteralyxia macrocarpa. Schiedea kaalae. Schiedea nuttallii.
|  | Solanum sandwicense. Tetraplasandra gymnocarpa. Tetraplasandra lydgatei.
Oahu—Lowland Mesic—Unit 6 |  | Alectryon macrococcus. Asplenium dielerectum. Asplenium dielfalcatum.
|  | Bonamia menziesii. Chamaesyce celastroides var. kaenana. Ctenitis squamigera.
| Cyanea acuminata | Cyanea acuminata. Cyanea calycina.
| Cyanea crispa | Cyanea crispa. Cyanea grimesiana ssp. grimesiana. Cyanea lanceolata. Cyanea longiflora.
| Cyanea truncata | Cyanea truncata. Cyrtandra dentata. Cyrtandra polyantha.
|  | Delissea subcordata. Dracaena forbesii. Eugenia koolauensis.
| Gardenia mannii | Gardenia mannii. Hesperomannia arborescens.
|  | Isodendrion laurifolium. Isodendrion longifolium. Kadua coriacea.
|  | Labordia cyrtandrae. Lobelia monostachya. Melicope lydgatei.
|  | Melicope saint-johnii. Phyllostegia hirsuta. Phyllostegia mollis.
|  | Phyllostegia parviflora. Plantago princeps.
| Pteralyxia macrocarpa | Pteralyxia macrocarpa.
| Schiedea kaalae | Schiedea kaalae. Schiedea nuttallii.
|  | Solanum sandwicense. Tetraplasandra gymnocarpa. Tetraplasandra lydgatei.
Oahu—Lowland Mesic—Unit 7 |  | Alectryon macrococcus.
| Asplenium dielerectum | Asplenium dielerectum. Asplenium dielfalcatum.
| Bonamia menziesii | Bonamia menziesii. Chamaesyce celastroides var. kaenana. Ctenitis squamigera.
| Cyanea acuminata | Cyanea acuminata. Cyanea calycina. Cyanea crispa.
| Cyanea grimesiana ssp. grimesiana | Cyanea grimesiana ssp. grimesiana.
| Cyanea lanceolata | Cyanea lanceolata. Cyanea longiflora. Cyanea truncata. Cyrtandra dentata.
| Cyrtandra polyantha | Cyrtandra polyantha. Delissea subcordata.
| Dracaena forbesii | Dracaena forbesii. Eugenia koolauensis.
|  | Gardenia mannii. Hesperomannia arborescens. Isodendrion laurifolium.
|  | Isodendrion longifolium. Kadua coriacea. Labordia cyrtandrae.
| Lobelia monostachya | Lobelia monostachya. Melicope lydgatei. Melicope saint-johnii. Phyllostegia hirsuta. Phyllostegia mollis. Phyllostegia parviflora. Plantago princeps.
| Pteralyxia macrocarpa | Pteralyxia macrocarpa. Schiedea kaalae.
|  | Schiedea nuttallii. Solanum sandwicense. Tetraplasandra gymnocarpa.
| Tetraplasandra lydgatei | Tetraplasandra lydgatei.
* * * * * * *
Oahu—Lowland Wet—Unit 6 |  | Adenophorus periens. Chamaesyce rockii. Cyanea acuminata.
|  | Cyanea calycina. Cyanea crispa. Cyanea grimesiana ssp. grimesiana. Cyanea humboldtiana.
|  | Cyanea koolauensis. Cyanea lanceolata. Cyanea purpurellifolia. Cyanea st.-johnii.
|  | Cyanea truncata. Cyrtandra dentata. Cyrtandra gracilis. Cyrtandra kaulantha.
|  | Cyrtandra polyantha. Cyrtandra sessilis. Cyrtandra subumbellata.
|  | Cyrtandra viridiflora. Cyrtandra waiolani. Gardenia mannii.
| Hesperomannia arborescens | Hesperomannia arborescens. Isodendrion longifolium. Labordia cyrtandrae.
|  | Lobelia gaudichaudii ssp. koolauensis. Lobelia oahuensis. Melicope cornuta var. cornuta. Melicope hiiakae.
|  | Melicope lydgatei. Myrsine juddii. Phlegmariurus nutans. Phyllostegia hirsuta.
|  | Phyllostegia parviflora. Plantago princeps. Platanthera holochila. Psychotria hexandra var. oahuensis.
|  | Pteralyxia macrocarpa. Pteris lidgatei. Sanicula purpurea. Tetraplasandra gymnocarpa.
|  | Trematolobelia singularis. Viola oahuensis. Zanthoxylum oahuense.
Oahu—Lowland Wet—Unit 7 |  | Adenophorus periens.
| Chamaesyce rockii | Chamaesyce rockii.
| Cyanea acuminata | Cyanea acuminata.
| Cyanea calycina | Cyanea calycina. Cyanea crispa. Cyanea grimesiana ssp. grimesiana.
| Cyanea humboldtiana | Cyanea humboldtiana. Cyanea koolauensis. Cyanea lanceolata.
| Cyanea purpurellifolia | Cyanea purpurellifolia. Cyanea st.-johnii.
| Cyanea truncata | Cyanea truncata. Cyrtandra dentata. Cyrtandra gracilis.
|  | Cyrtandra kaulantha. Cyrtandra polyantha. Cyrtandra sessilis. Cyrtandra subumbellata.
| Cyrtandra viridiflora | Cyrtandra viridiflora. Cyrtandra waiolani.
| Gardenia mannii | Gardenia mannii.
| Hesperomannia arborescens | Hesperomannia arborescens. Isodendrion longifolium.
|  | Labordia cyrtandrae. Lobelia gaudichaudii ssp. koolauensis Lobelia oahuensis.
| Melicope cornuta var. cornuta | Melicope cornuta var. cornuta. Melicope hiiakae. Melicope lydgatei.
| Myrsine juddii | Myrsine juddii.
| Phlegmariurus nutans | Phlegmariurus nutans.
| Phyllostegia hirsuta | Phyllostegia hirsuta. Phyllostegia parviflora. Plantago princeps. Platanthera holochila. Psychotria hexandra var. oahuensis.
| Pteralyxia macrocarpa | Pteralyxia macrocarpa.
| Pteris lidgatei | Pteris lidgatei. Sanicula purpurea.
| Tetraplasandra gymnocarpa | Tetraplasandra gymnocarpa. Trematolobelia singularis.
| Viola oahuensis | Viola oahuensis.
| Zanthoxylum oahuense | Zanthoxylum oahuense.
Oahu—Lowland Wet—Unit 8 |  | Adenophorus periens. Chamaesyce rockii. Cyanea acuminata.
|  | Cyanea calycina. Cyanea crispa. Cyanea grimesiana ssp. grimesiana. Cyanea humboldtiana.
|  | Cyanea koolauensis. Cyanea lanceolata. Cyanea purpurellifolia. Cyanea st.-johnii.
|  | Cyanea truncata. Cyrtandra dentata. Cyrtandra gracilis.
| Cyrtandra kaulantha | Cyrtandra kaulantha. Cyrtandra polyantha. Cyrtandra sessilis.
|  | Cyrtandra subumbellata. Cyrtandra viridiflora. Cyrtandra waiolani. Gardenia mannii.
|  | Hesperomannia arborescens. Isodendrion longifolium. Labordia cyrtandrae. Lobelia gaudichaudii ssp. koolauensis.
|  | Lobelia oahuensis. Melicope cornuta var. cornuta. Melicope hiiakae. Melicope lydgatei.
|  | Myrsine juddii. Phlegmariurus nutans. Phyllostegia hirsuta. Phyllostegia parviflora.
|  | Plantago princeps. Platanthera holochila. Psychotria hexandra var. oahuensis. Pteralyxia macrocarpa.
|  | Pteris lidgatei. Sanicula purpurea. Tetraplasandra gymnocarpa.
|  | Trematolobelia singularis. Viola oahuensis. Zanthoxylum oahuense.
Oahu—Lowland Wet—Unit 9 |  | Adenophorus periens.
| Chamaesyce rockii | Chamaesyce rockii. Cyanea acuminata.
| Cyanea calycina | Cyanea calycina. Cyanea crispa. Cyanea grimesiana ssp. grimesiana.
| Cyanea humboldtiana | Cyanea humboldtiana.
| Cyanea koolauensis | Cyanea koolauensis. Cyanea lanceolata. Cyanea purpurellifolia.
| Cyanea st.-johnii | Cyanea st.-johnii. Cyanea truncata. Cyrtandra dentata. Cyrtandra gracilis.
|  | Cyrtandra kaulantha. Cyrtandra polyantha. Cyrtandra sessilis. Cyrtandra subumbellata.
| Cyrtandra viridiflora | Cyrtandra viridiflora. Cyrtandra waiolani.
| Gardenia mannii | Gardenia mannii.
| Hesperomannia arborescens | Hesperomannia arborescens. Isodendrion longifolium.
| Labordia cyrtandrae | Labordia cyrtandrae. Lobelia gaudichaudii ssp. koolauensis.
| Lobelia oahuensis | Lobelia oahuensis.
| Melicope cornuta var. cornuta | Melicope cornuta var. cornuta.
| Melicope hiiakae | Melicope hiiakae.
| Melicope lydgatei | Melicope lydgatei. Myrsine juddii. Phlegmariurus nutans.
| Phyllostegia hirsuta | Phyllostegia hirsuta.
| Phyllostegia parviflora | Phyllostegia parviflora.
| Plantago princeps | Plantago princeps. Platanthera holochila. Psychotria hexandra var. oahuensis. Pteralyxia macrocarpa.
| Pteris lidgatei | Pteris lidgatei. Sanicula purpurea.
| Tetraplasandra gymnocarpa | Tetraplasandra gymnocarpa. Trematolobelia singularis.
| Viola oahuensis | Viola oahuensis.
| Zanthoxylum oahuense | Zanthoxylum oahuense.
Oahu—Lowland Wet—Unit 10 |  | Adenophorus periens. Chamaesyce rockii. Cyanea acuminata.
|  | Cyanea calycina. Cyanea crispa. Cyanea grimesiana ssp. grimesiana. Cyanea humboldtiana.
|  | Cyanea koolauensis. Cyanea lanceolata. Cyanea purpurellifolia. Cyanea st.-johnii.
|  | Cyanea truncata. Cyrtandra dentata. Cyrtandra gracilis. Cyrtandra kaulantha.
|  | Cyrtandra polyantha. Cyrtandra sessilis. Cyrtandra subumbellata. Cyrtandra viridiflora. Cyrtandra waiolani.
|  | Gardenia mannii. Hesperomannia arborescens. Isodendrion longifolium. Labordia cyrtandrae.
|  | Lobelia gaudichaudii ssp. koolauensis. Lobelia oahuensis. Melicope cornuta var. cornuta. Melicope hiiakae.
|  | Melicope lydgatei. Myrsine juddii. Phlegmariurus nutans. Phyllostegia hirsuta.
|  | Phyllostegia parviflora. Plantago princeps. Platanthera holochila. Psychotria hexandra var. oahuensis.
|  | Pteralyxia macrocarpa. Pteris lidgatei. Sanicula purpurea. Tetraplasandra gymnocarpa.
|  | Trematolobelia singularis. Viola oahuensis. Zanthoxylum oahuense.
Oahu—Lowland Wet—Unit 11 |  | Adenophorus periens. Chamaesyce rockii. Cyanea acuminata.
|  | Cyanea calycina. Cyanea crispa. Cyanea grimesiana ssp. grimesiana.
|  | Cyanea humboldtiana. Cyanea koolauensis. Cyanea lanceolata. Cyanea purpurellifolia.
|  | Cyanea st.-johnii. Cyanea truncata. Cyrtandra dentata. Cyrtandra gracilis.
|  | Cyrtandra kaulantha. Cyrtandra polyantha. Cyrtandra sessilis. Cyrtandra subumbellata.
|  | Cyrtandra viridiflora. Cyrtandra waiolani. Gardenia mannii. Hesperomannia arborescens.
|  | Isodendrion longifolium. Labordia cyrtandrae. Lobelia gaudichaudii ssp. koolauensis. Lobelia oahuensis.
|  | Melicope cornuta var. cornuta. Melicope hiiakae. Melicope lydgatei. Myrsine juddii.
|  | Phlegmariurus nutans. Phyllostegia hirsuta. Phyllostegia parviflora. Plantago princeps.
|  | Platanthera holochila. Psychotria hexandra var. oahuensis. Pteralyxia macrocarpa. Pteris lidgatei.
|  | Sanicula purpurea. Tetraplasandra gymnocarpa. Trematolobelia singularis. Viola oahuensis. Zanthoxylum oahuense.
Oahu—Lowland Wet—Unit 12 |  | Adenophorus periens. Chamaesyce rockii. Cyanea acuminata. Cyanea calycina.
|  | Cyanea crispa. Cyanea grimesiana ssp. grimesiana. Cyanea humboldtiana. Cyanea koolauensis.
|  | Cyanea lanceolata. Cyanea purpurellifolia. Cyanea st.-johnii. Cyanea truncata.
|  | Cyrtandra dentata. Cyrtandra gracilis. Cyrtandra kaulantha. Cyrtandra polyantha.
|  | Cyrtandra sessilis. Cyrtandra subumbellata. Cyrtandra viridiflora. Cyrtandra waiolani.
|  | Gardenia mannii. Hesperomannia arborescens. Isodendrion longifolium. Labordia cyrtandrae.
|  | Lobelia gaudichaudii ssp. koolauensis. Lobelia oahuensis. Melicope cornuta var. cornuta. Melicope hiiakae.
|  | Melicope lydgatei. Myrsine juddii. Phlegmariurus nutans. Phyllostegia hirsuta.
|  | Phyllostegia parviflora. Plantago princeps. Platanthera holochila. Psychotria hexandra var. oahuensis.
|  | Pteralyxia macrocarpa. Pteris lidgatei. Sanicula purpurea. Tetraplasandra gymnocarpa.
|  | Trematolobelia singularis. Viola oahuensis. Zanthoxylum oahuense.
Oahu—Lowland Wet—Unit 13 |  | Adenophorus periens. Chamaesyce rockii. Cyanea acuminata. Cyanea calycina.
|  | Cyanea crispa. Cyanea grimesiana ssp. grimesiana. Cyanea humboldtiana. Cyanea koolauensis.
|  | Cyanea lanceolata. Cyanea purpurellifolia. Cyanea st.-johnii. Cyanea truncata.
|  | Cyrtandra dentata. Cyrtandra gracilis. Cyrtandra kaulantha. Cyrtandra polyantha.
|  | Cyrtandra sessilis. Cyrtandra subumbellata. Cyrtandra viridiflora. Cyrtandra waiolani.
|  | Gardenia mannii. Hesperomannia arborescens. Isodendrion longifolium. Labordia cyrtandrae.
|  | Lobelia gaudichaudii ssp. koolauensis. Lobelia oahuensis. Melicope cornuta var. cornuta. Melicope hiiakae.
|  | Melicope lydgatei. Myrsine juddii. Phlegmariurus nutans. Phyllostegia hirsuta.
|  | Phyllostegia parviflora. Plantago princeps. Platanthera holochila. Psychotria hexandra var. oahuensis.
|  | Pteralyxia macrocarpa. Pteris lidgatei. Sanicula purpurea. Tetraplasandra gymnocarpa.
|  | Trematolobelia singularis. Viola oahuensis. Zanthoxylum oahuense.
Oahu—Lowland Wet—Unit 14 |  | Adenophorus periens. Chamaesyce rockii. Cyanea acuminata.
|  | Cyanea calycina. Cyanea crispa. Cyanea grimesiana ssp. grimesiana. Cyanea humboldtiana.
| Cyanea koolauensis | Cyanea koolauensis. Cyanea lanceolata. Cyanea purpurellifolia.
|  | Cyanea st.-johnii. Cyanea truncata. Cyrtandra dentata. Cyrtandra gracilis.
|  | Cyrtandra kaulantha. Cyrtandra polyantha. Cyrtandra sessilis. Cyrtandra subumbellata.
|  | Cyrtandra viridiflora. Cyrtandra waiolani. Gardenia mannii. Hesperomannia arborescens.
|  | Isodendrion longifolium. Labordia cyrtandrae. Lobelia gaudichaudii ssp. koolauensis. Lobelia oahuensis.
|  | Melicope cornuta var. cornuta. Melicope hiiakae. Melicope lydgatei. Myrsine juddii.
|  | Phlegmariurus nutans. Phyllostegia hirsuta. Phyllostegia parviflora. Plantago princeps.
|  | Platanthera holochila. Psychotria hexandra var. oahuensis. Pteralyxia macrocarpa. Pteris lidgatei.
|  | Sanicula purpurea. Tetraplasandra gymnocarpa. Trematolobelia singularis.
|  | Viola oahuensis. Zanthoxylum oahuense.
Oahu—Lowland Wet—Unit 15 |  | Adenophorus periens. Chamaesyce rockii. Cyanea acuminata. Cyanea calycina.
| Cyanea crispa | Cyanea crispa. Cyanea grimesiana ssp. grimesiana. Cyanea humboldtiana.
|  | Cyanea koolauensis. Cyanea lanceolata. Cyanea purpurellifolia. Cyanea st.-johnii.
|  | Cyanea truncata. Cyrtandra dentata. Cyrtandra gracilis. Cyrtandra kaulantha.
|  | Cyrtandra polyantha. Cyrtandra sessilis. Cyrtandra subumbellata. Cyrtandra viridiflora.
|  | Cyrtandra waiolani. Gardenia mannii. Hesperomannia arborescens. Isodendrion longifolium.
|  | Labordia cyrtandrae. Lobelia gaudichaudii ssp. koolauensis. Lobelia oahuensis. Melicope cornuta var. cornuta.
|  | Melicope hiiakae. Melicope lydgatei. Myrsine juddii. Phlegmariurus nutans.
|  | Phyllostegia hirsuta. Phyllostegia parviflora. Plantago princeps. Platanthera holochila.
|  | Psychotria hexandra var. oahuensis. Pteralyxia macrocarpa. Pteris lidgatei. Sanicula purpurea.
|  | Tetraplasandra gymnocarpa. Trematolobelia singularis. Viola oahuensis. Zanthoxylum oahuense.
Oahu—Lowland Wet—Unit 16 |  | Adenophorus periens. Chamaesyce rockii.
| Cyanea acuminata | Cyanea acuminata.
| Cyanea calycina | Cyanea calycina.
| Cyanea crispa | Cyanea crispa. Cyanea grimesiana ssp. grimesiana.
| Cyanea humboldtiana | Cyanea humboldtiana.
| Cyanea koolauensis | Cyanea koolauensis.
| Cyanea lanceolata | Cyanea lanceolata. Cyanea purpurellifolia.
| Cyanea st.-johnii | Cyanea st.-johnii. Cyanea truncata. Cyrtandra dentata.
| Cyrtandra gracilis | Cyrtandra gracilis. Cyrtandra kaulantha.
| Cyrtandra polyantha | Cyrtandra polyantha.
| Cyrtandra sessilis | Cyrtandra sessilis. Cyrtandra subumbellata. Cyrtandra viridiflora. Cyrtandra waiolani.
| Gardenia mannii | Gardenia mannii.
| Hesperomannia arborescens | Hesperomannia arborescens. Isodendrion longifolium.
|  | Labordia cyrtandrae. Lobelia gaudichaudii ssp. koolauensis. Lobelia oahuensis.
| Melicope cornuta var. cornuta | Melicope cornuta var. cornuta. Melicope hiiakae. Melicope lydgatei.
|  | Myrsine juddii. Phlegmariurus nutans. Phyllostegia hirsuta.
|  | Phyllostegia parviflora. Plantago princeps. Platanthera holochila.
|  | Psychotria hexandra var. oahuensis. Pteralyxia macrocarpa. Pteris lidgatei.
| Sanicula purpurea | Sanicula purpurea.
| Tetraplasandra gymnocarpa | Tetraplasandra gymnocarpa. Trematolobelia singularis. Viola oahuensis. Zanthoxylum oahuense.
* * * * * * *
Oahu—Dry Cliff—Unit 1 |  | Abutilon sandwicense. Achyranthes splendens var. rotundata.
| Alectryon macrococcus | Alectryon macrococcus. Asplenium dielfalcatum. Bonamia menziesii.
| Cenchrus agrimonioides | Cenchrus agrimonioides.
| Chamaesyce herbstii | Chamaesyce herbstii. Chamaesyce kuwaleana.
| Cyanea grimesiana ssp. obatae | Cyanea grimesiana ssp. obatae.
| Cyrtandra dentata | Cyrtandra dentata. Diellia unisora. Dracaena forbesii.
|  | Dubautia herbstobatae. Eragrostis fosbergii. Flueggea neowawraea. Gouania meyenii.
|  | Gouania vitifolia. Isodendrion laurifolium. Isodendrion pyrifolium.
| Kadua degeneri | Kadua degeneri. Kadua parvula. Korthalsella degeneri.
|  | Lepidium arbuscula. Lipochaeta lobata var. leptophylla. Lobelia niihauensis.
|  | Melanthera tenuifolia. Melicope cornuta var. decurrens. Melicope makahae. Melicope saint-johnii.
|  | Neraudia angulata. Nototrichium humile. Peucedanum sandwicense. Phyllostegia kaalaensis.
| Plantago princeps | Plantago princeps. Pteralyxia macrocarpa. Sanicula mariversa. Schiedea hookeri.
| Schiedea obovata | Schiedea obovata. Schiedea trinervis. Silene lanceolata. Silene perlmanii.
|  | Spermolepis hawaiiensis. Tetramolopium filiforme. Tetramolopium lepidotum ssp. lepidotum.
| Viola chamissoniana ssp. chamissoniana.
Oahu—Dry Cliff—Unit 2 | Abutilon sandwicense | Abutilon sandwicense. Achyranthes splendens var. rotundata.
| Alectryon macrococcus | Alectryon macrococcus. Asplenium dielfalcatum. Bonamia menziesii.
|  | Cenchrus agrimonioides. Chamaesyce herbstii. Chamaesyce kuwaleana.
|  | Cyanea grimesiana ssp. obatae. Cyrtandra dentata. Diellia unisora.
| Dracaena forbesii | Dracaena forbesii.
| Dubautia herbstobatae | Dubautia herbstobatae. Eragrostis fosbergii. Flueggea neowawraea. Gouania meyenii.
| Gouania vitifolia | Gouania vitifolia. Isodendrion laurifolium. Isodendrion pyrifolium. Kadua degeneri.
| Kadua parvula | Kadua parvula. Korthalsella degeneri.
| Lepidium arbuscula | Lepidium arbuscula. Lipochaeta lobata var. leptophylla.
| Lobelia niihauensis | Lobelia niihauensis.
| Melanthera tenuifolia | Melanthera tenuifolia.
| Melicope cornuta var. decurrens | Melicope cornuta var. decurrens.
| Melicope makahae | Melicope makahae. Melicope saint-johnii. Neraudia angulata.
| Nototrichium humile | Nototrichium humile.
| Peucedanum sandwicense | Peucedanum sandwicense. Phyllostegia kaalaensis. Plantago princeps. Pteralyxia macrocarpa.
| Sanicula mariversa | Sanicula mariversa.
| Schiedea hookeri | Schiedea hookeri. Schiedea obovata. Schiedea trinervis.
|  | Silene lanceolata. Silene perlmanii. Spermolepis hawaiiensis.
| Tetramolopium filiforme | Tetramolopium filiforme. Tetramolopium lepidotum ssp. lepidotum.
| Viola chamissoniana ssp. chamissoniana | Viola chamissoniana ssp. chamissoniana.
Oahu—Dry Cliff—Unit 3 | Abutilon sandwicense | Abutilon sandwicense. Achyranthes splendens var. rotundata.
| Alectryon macrococcus | Alectryon macrococcus.
| Asplenium dielfalcatum | Asplenium dielfalcatum.
| Bonamia menziesii | Bonamia menziesii. Cenchrus agrimonioides. Chamaesyce herbstii.
|  | Chamaesyce kuwaleana. Cyanea grimesiana ssp. obatae. Cyrtandra dentata. Diellia unisora.
| Dracaena forbesii | Dracaena forbesii.
| Dubautia herbstobatae | Dubautia herbstobatae.
| Eragrostis fosbergii | Eragrostis fosbergii.
| Flueggea neowawraea | Flueggea neowawraea.
| Gouania meyenii | Gouania meyenii. Gouania vitifolia.
| Isodendrion laurifolium | Isodendrion laurifolium. Isodendrion pyrifolium. Kadua degeneri. Kadua parvula.
| Korthalsella degeneri | Korthalsella degeneri.
| Lepidium arbuscula | Lepidium arbuscula.
| Lipochaeta lobata var. leptophylla | Lipochaeta lobata var. leptophylla.
| Lobelia niihauensis | Lobelia niihauensis.
| Melanthera tenuifolia | Melanthera tenuifolia. Melicope cornuta var. decurrens.
| Melicope makahae | Melicope makahae. Melicope saint-johnii.
| Neraudia angulata | Neraudia angulata.
| Nototrichium humile | Nototrichium humile.
| Peucedanum sandwicense | Peucedanum sandwicense.
| Phyllostegia kaalaensis | Phyllostegia kaalaensis. Plantago princeps.
| Pteralyxia macrocarpa | Pteralyxia macrocarpa. Sanicula mariversa.
| Schiedea hookeri | Schiedea hookeri. Schiedea obovata. Schiedea trinervis.
| Silene lanceolata | Silene lanceolata. Silene perlmanii. Spermolepis hawaiiensis.
| Tetramolopium filiforme | Tetramolopium filiforme. Tetramolopium lepidotum ssp. lepidotum.
| Viola chamissoniana ssp. chamissoniana | Viola chamissoniana ssp. chamissoniana.
Oahu—Dry Cliff—Unit 4 |  | Abutilon sandwicense. Achyranthes splendens var. rotundata.
| Alectryon macrococcus | Alectryon macrococcus. Asplenium dielfalcatum. Bonamia menziesii. Cenchrus agrimonioides. Chamaesyce herbstii.
| Chamaesyce kuwaleana | Chamaesyce kuwaleana. Cyanea grimesiana ssp. obatae. Cyrtandra dentata.
|  | Diellia unisora. Dracaena forbesii. Dubautia herbstobatae. Eragrostis fosbergii.
|  | Flueggea neowawraea. Gouania meyenii. Gouania vitifolia. Isodendrion laurifolium.
|  | Isodendrion pyrifolium. Kadua degeneri. Kadua parvula. Korthalsella degeneri.
|  | Lepidium arbuscula. Lipochaeta lobata var. leptophylla. Lobelia niihauensis. Melanthera tenuifolia.
|  | Melicope cornuta var. decurrens. Melicope makahae. Melicope saint-johnii. Neraudia angulata.
|  | Nototrichium humile. Peucedanum sandwicense. Phyllostegia kaalaensis. Plantago princeps.
|  | Pteralyxia macrocarpa. Sanicula mariversa. Schiedea hookeri. Schiedea obovata.
|  | Schiedea trinervis. Silene lanceolata. Silene perlmanii.
| Spermolepis hawaiiensis | Spermolepis hawaiiensis. Tetramolopium filiforme. Tetramolopium lepidotum ssp. lepidotum. Viola chamissoniana ssp. chamissoniana.
Oahu—Dry Cliff—Unit 6 |  | Abutilon sandwicense. Achyranthes splendens var. rotundata.
|  | Alectryon macrococcus. Asplenium dielfalcatum. Bonamia menziesii.
| Cenchrus agrimonioides | Cenchrus agrimonioides. Chamaesyce herbstii.
|  | Chamaesyce kuwaleana. Cyanea grimesiana ssp. obatae. Cyrtandra dentata.
| Diellia unisora | Diellia unisora.
| Dracaena forbesii | Dracaena forbesii. Dubautia herbstobatae. Eragrostis fosbergii.
| Flueggea neowawraea | Flueggea neowawraea. Gouania meyenii.
|  | Gouania vitifolia. Isodendrion laurifolium. Isodendrion pyrifolium.
|  | Kadua degeneri. Kadua parvula. Korthalsella degeneri.
| Lepidium arbuscula | Lepidium arbuscula. Lipochaeta lobata var. leptophylla.
| Lobelia niihauensis | Lobelia niihauensis. Melanthera tenuifolia. Melicope cornuta var. decurrens. Melicope makahae.
| Melicope saint-johnii | Melicope saint-johnii.
| Neraudia angulata | Neraudia angulata. Nototrichium humile. Peucedanum sandwicense. Phyllostegia kaalaensis.
| Plantago princeps | Plantago princeps. Pteralyxia macrocarpa. Sanicula mariversa.
|  | Schiedea hookeri. Schiedea obovata. Schiedea trinervis. Silene lanceolata.
| Silene perlmanii | Silene perlmanii. Spermolepis hawaiiensis. Tetramolopium filiforme.
| Tetramolopium lepidotum ssp. lepidotum | Tetramolopium lepidotum ssp. lepidotum.
|  | Viola chamissoniana ssp. chamissoniana.
Oahu—Dry Cliff—Unit 7a |  | Abutilon sandwicense. Achyranthes splendens var. rotundata. Alectryon macrococcus.
|  | Asplenium dielfalcatum. Bonamia menziesii. Cenchrus agrimonioides. Chamaesyce herbstii.
|  | Chamaesyce kuwaleana. Cyanea grimesiana ssp. obatae. Cyrtandra dentata. Diellia unisora.
| Dracaena forbesii | Dracaena forbesii. Dubautia herbstobatae. Eragrostis fosbergii.
| Flueggea neowawraea | Flueggea neowawraea. Gouania meyenii. Gouania vitifolia.
|  | Isodendrion laurifolium. Isodendrion pyrifolium. Kadua degeneri.
| Kadua parvula | Kadua parvula. Korthalsella degeneri. Lepidium arbuscula.
|  | Lipochaeta lobata var. leptophylla. Lobelia niihauensis. Melanthera tenuifolia.
| Melicope cornuta var. decurrens | Melicope cornuta var. decurrens. Melicope makahae.
| Melicope saint-johnii | Melicope saint-johnii. Neraudia angulata.
|  | Nototrichium humile. Peucedanum sandwicense. Phyllostegia kaalaensis.
| Plantago princeps | Plantago princeps. Pteralyxia macrocarpa. Sanicula mariversa.
|  | Schiedea hookeri. Schiedea obovata. Schiedea trinervis. Silene lanceolata.
| Silene perlmanii | Silene perlmanii. Spermolepis hawaiiensis. Tetramolopium filiforme. Tetramolopium lepidotum ssp. lepidotum.
| Viola chamissoniana ssp. chamissoniana | Viola chamissoniana ssp. chamissoniana.
Oahu—Dry Cliff—Unit 7b |  | Abutilon sandwicense. Achyranthes splendens var. rotundata.
|  | Alectryon macrococcus. Asplenium dielfalcatum. Bonamia menziesii.
|  | Cenchrus agrimonioides. Chamaesyce herbstii. Chamaesyce kuwaleana.
|  | Cyanea grimesiana ssp. obatae. Cyrtandra dentata. Diellia unisora.
|  | Dracaena forbesii. Dubautia herbstobatae. Eragrostis fosbergii.
|  | Flueggea neowawraea. Gouania meyenii. Gouania vitifolia.
|  | Isodendrion laurifolium. Isodendrion pyrifolium. Kadua degeneri.
|  | Kadua parvula. Korthalsella degeneri. Lepidium arbuscula.
|  | Lipochaeta lobata var. leptophylla. Lobelia niihauensis. Melanthera tenuifolia.
|  | Melicope cornuta var. decurrens. Melicope makahae. Melicope saint-johnii.
|  | Neraudia angulata. Nototrichium humile. Peucedanum sandwicense.
|  | Phyllostegia kaalaensis. Plantago princeps. Pteralyxia macrocarpa.
|  | Sanicula mariversa. Schiedea hookeri. Schiedea obovata.
|  | Schiedea trinervis. Silene lanceolata. Silene perlmanii.
|  | Spermolepis hawaiiensis. Tetramolopium filiforme. Tetramolopium lepidotum ssp. lepidotum. Viola chamissoniana ssp. chamissoniana.
Oahu—Dry Cliff—Unit 8 | Abutilon sandwicense | Abutilon sandwicense. Achyranthes splendens var. rotundata. Alectryon macrococcus. Asplenium dielfalcatum.
| Bonamia menziesii | Bonamia menziesii. Cenchrus agrimonioides.
|  | Chamaesyce herbstii. Chamaesyce kuwaleana. Cyanea grimesiana ssp. obatae.
|  | Cyrtandra dentata. Diellia unisora.
| Dracaena forbesii | Dracaena forbesii. Dubautia herbstobatae. Eragrostis fosbergii.
| Flueggea neowawraea | Flueggea neowawraea. Gouania meyenii.
|  | Gouania vitifolia. Isodendrion laurifolium. Isodendrion pyrifolium.
|  | Kadua degeneri. Kadua parvula. Korthalsella degeneri.
|  | Lepidium arbuscula. Lipochaeta lobata var. leptophylla
| Lobelia niihauensis | Lobelia niihauensis. Melanthera tenuifolia. Melicope cornuta var. decurrens. Melicope makahae. Melicope saint-johnii.
| Neraudia angulata | Neraudia angulata.
| Nototrichium humile | Nototrichium humile. Peucedanum sandwicense.
|  | Phyllostegia kaalaensis. Plantago princeps. Pteralyxia macrocarpa.
|  | Sanicula mariversa. Schiedea hookeri. Schiedea obovata.
|  | Schiedea trinervis. Silene lanceolata. Silene perlmanii.
|  | Spermolepis hawaiiensis. Tetramolopium filiforme. Tetramolopium lepidotum ssp. lepidotum. Viola chamissoniana ssp. chamissoniana.
* * * * * * *
Oahu—Wet Cliff—Unit 6 |  | Adenophorus periens. Chamaesyce deppeana.
|  | Chamaesyce rockii. Cyanea acuminata. Cyanea calycina.
| Cyanea crispa | Cyanea crispa. Cyanea humboldtiana.
|  | Cyanea purpurellifolia. Cyanea st.-johnii. Cyanea truncata.
|  | Cyrtandra kaulantha. Cyrtandra sessilis. Cyrtandra subumbellata.
|  | Cyrtandra viridiflora. Labordia cyrtandrae. Lobelia oahuensis. Lysimachia filifolia.
| Phlegmariurus nutans | Phlegmariurus nutans. Phyllostegia hirsuta. Phyllostegia parviflora. Plantago princeps. Psychotria hexandra var. oahuensis.
| Pteralyxia macrocarpa | Pteralyxia macrocarpa. Sanicula purpurea.
| Schiedea kaalae | Schiedea kaalae. Tetraplasandra gymnocarpa. Trematolobelia singularis. Viola oahuensis.
Oahu—Wet Cliff—Unit 7 |  | Adenophorus periens. Chamaesyce deppeana.
|  | Chamaesyce rockii. Cyanea acuminata. Cyanea calycina.
| Cyanea crispa | Cyanea crispa. Cyanea humboldtiana.
|  | Cyanea purpurellifolia. Cyanea st.-johnii. Cyanea truncata.
|  | Cyrtandra kaulantha. Cyrtandra sessilis. Cyrtandra subumbellata.
|  | Cyrtandra viridiflora. Labordia cyrtandrae. Lobelia oahuensis.
|  | Lysimachia filifolia. Phlegmariurus nutans. Phyllostegia hirsuta.
|  | Phyllostegia parviflora. Plantago princeps.
| Psychotria hexandra var. oahuensis | Psychotria hexandra var. oahuensis. Pteralyxia macrocarpa. Sanicula purpurea.
| Schiedea kaalae | Schiedea kaalae. Tetraplasandra gymnocarpa. Trematolobelia singularis. Viola oahuensis.
Oahu—Wet Cliff—Unit 8 |  | Adenophorus periens. Chamaesyce deppeana. Chamaesyce rockii.
| Cyanea acuminata | Cyanea acuminata.
| Cyanea calycina | Cyanea calycina. Cyanea crispa.
| Cyanea humboldtiana | Cyanea humboldtiana.
| Cyanea purpurellifolia | Cyanea purpurellifolia.
| Cyanea st.-johnii | Cyanea st.-johnii. Cyanea truncata.
| Cyrtandra kaulantha | Cyrtandra kaulantha.
| Cyrtandra sessilis | Cyrtandra sessilis.
| Cyrtandra subumbellata | Cyrtandra subumbellata.
| Cyrtandra viridiflora | Cyrtandra viridiflora.
| Labordia cyrtandrae | Labordia cyrtandrae.
| Lobelia oahuensis | Lobelia oahuensis.
| Lysimachia filifolia | Lysimachia filifolia.
| Phlegmariurus nutans | Phlegmariurus nutans.
| Phyllostegia hirsuta | Phyllostegia hirsuta.
| Phyllostegia parviflora | Phyllostegia parviflora.
| Plantago princeps | Plantago princeps. Psychotria hexandra var. oahuensis.
| Pteralyxia macrocarpa | Pteralyxia macrocarpa.
| Sanicula purpurea | Sanicula purpurea. Schiedea kaalae.
| Tetraplasandra gymnocarpa | Tetraplasandra gymnocarpa.
| Trematolobelia singularis | Trematolobelia singularis.
| Viola oahuensis | Viola oahuensis.

(k) * * *

* * * * *

(26) * * *

(ii) Note: The reference to “Hawaii 7—Pleomele hawaiiensis—a” on the map is equivalent to “Hawaii 7—Dracaena konaensis—a”. Map 26 follows:

* * * * *

(51) * * *

(ii) Note: The reference to “Hawaii 10—Pleomele hawaiiensis—b” on the map is equivalent to “Hawaii 10—Dracaena konaensis—b”. Map 48 follows:

* * * * *

(69) * * *

(ii) Note: The reference to “Hawaii 18—Pleomele hawaiiensis—c” on the map is equivalent to “Hawaii 18—Dracaena konaensis—c”. Map 69 follows:

* * * * *

(74) * * *

(ii) Note: The reference to “Hawaii 23—Pleomele hawaiiensis—d” on the map is equivalent to “Hawaii 23—Dracaena konaensis—d”. Map 74 follows:

* * * * *

(115) * * *

Unit name | Species occupied | Species unoccupied
* * * * * * *
Hawaii 7—Dracaena konaensis—a | Dracaena konaensis | Dracaena konaensis.
* * * * * * *
Hawaii 10—Dracaena konaensis—b | Dracaena konaensis | Dracaena konaensis.
* * * * * * *
Hawaii 17—Asplenium dielerectum—a | Asplenium dielerectum | Asplenium dielerectum.
* * * * * * *
Hawaii 18—Asplenium dielerectum—b | Asplenium dielerectum | Asplenium dielerectum.
* * * * * * *
Hawaii 18—Dracaena konaensis—c | Dracaena konaensis | Dracaena konaensis.
* * * * * * *
Hawaii 23—Dracaena konaensis—d | Dracaena konaensis | Dracaena konaensis.
* * * * * * *

* * * * *

(l) * * *

(1) * * *

* * * * *

Family Liliaceae: Dracaena Konaensis (Hala Pepe)

Hawaii 7—Dracaena konaensis—a, Hawaii 10—Dracaena konaensis—b, Hawaii 18—Dracaena konaensis—c, and Hawaii 23—Dracaena konaensis—d, identified in the legal descriptions in paragraph (k) of this section, constitute critical habitat for Dracaena konaensis on Hawaii. Within these units, the currently known primary constituent elements of critical habitat include, but are not limited to, the habitat components provided by: * * *

* * * * *

Martha Williams,
Director, U.S. Fish and Wildlife Service.

[FR Doc. 2023-01025 Filed 2-1-23; 8:45 am]

BILLING CODE 4333-15-P